DEPARTMENT OF HOMELAND SECURITY

Coast Guard

46 CFR Parts 1, 2, 6, 8, 10, 11, 12, 15, 16, 24, 25, 26, 27, 28, 30, 31, 32, 34, 35, 39, 42, 46, 50, 52, 53, 54, 56, 57, 58, 59, 61, 62, 63, 64, 67, 70, 71, 76, 77, 78, 90, 91, 92, 95, 96, 97, 98, 105, 107, 108, 109, 110, 111, 114, 117, 125, 126, 127, 128, 130, 131, 133, 134, 147, 148, 150, 151, 153, 154, 159, 160, 161, 162, 164, 167, 169, 170, 171, 172, 174, 175, 179, 180, 188, 189, 193, 194, 195, 197, 199, and 401

49 CFR Parts 450, 451, 452, and 453

[Docket No. USCG-2012-0832]

RIN 1625-AB87

Shipping and Transportation; Technical, Organizational, and Conforming Amendments

AGENCY: Coast Guard, DHS.

ACTION: Final rule.

SUMMARY: This final rule makes non-substantive changes throughout Titles 46 and 49 of the Code of Federal Regulations. The purpose of this rule is to make conforming amendments and technical corrections to Coast Guard shipping and transportation regulations. This rule will have no substantive effect on the regulated public. These changes are provided to coincide with the annual recodification of Titles 46 and 49 on October 1, 2012.

DATES: This final rule is effective October 1, 2012.

ADDRESSES: Comments and material received from the public, as well as documents mentioned in this preamble as being available in the docket, are part of docket USCG-2012-0832 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2012-0832 in the “Keyword” box, and then clicking “Search.”

FOR FURTHER INFORMATION CONTACT: If you have questions on this rule, call or email Paul Crissy, Coast Guard; telephone 202-372-1093, email Paul.H.Crissy@uscg.mil. If you have questions on viewing the docket, call Renee V. Wright, Program Manager, Docket Operations, telephone 202-366-9826.

SUPPLEMENTARY INFORMATION:

Table of Contents for Preamble

I. Abbreviations

II. Regulatory History

III. Basis and Purpose

IV. Background

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

NMC National Maritime Center

NPRM Notice of proposed rulemaking

U.S.C. United States Code

II. Regulatory History

We did not publish a notice of proposed rulemaking (NPRM) for this rule. Under 5 U.S.C. 553(b)(A) and (b)(B) the Coast Guard finds this rule is exempt from notice and comment rulemaking requirements because these changes involve rules of agency organization, procedure, or practice. In addition, good cause exists for not publishing an NPRM for all revisions in the rule because the revisions are all non-substantive changes. This rule consists only of corrections and editorial, organizational, and conforming amendments. These changes will have no substantive effect on the public. Under 5 U.S.C. 553(d)(3), the Coast Guard finds that, for the same reasons, good cause exists for making this rule effective upon publication in the Federal Register.

III. Basis and Purpose

Each year, the printed editions of Titles 46 and 49 of the Code of Federal Regulations (CFR) are recodified on October 1. This rule, which becomes effective October 1, 2012, makes technical and editorial corrections throughout Titles 46 and 49. This rule does not create any substantive requirements.

This rule updates internal Coast Guard office symbols throughout Titles 46 and 49 of the CFR in order to conform to the office symbols that came into use with the Deputy Commandant for Operations 3.0 realignment effective May 6, 2012. This rule also updates various addresses for Coast Guard offices throughout Titles 46 and 49 of the CFR in order to conform to new mailing addresses and mailing address formats that came into use June 15, 2009.

Additional amendments to 46 CFR and 49 CFR are as follows:

This rule amends 46 CFR 1.01-10 and 1.01-15 to update the title of the National Maritime Center's (NMC's) satellite offices.

This rule amends 46 CFR 2.10-20 to add the option of using Pay.gov for online payment of fees related to vessel inspections.

This rule amends 46 CFR 10.107 and 10.217 to update the title of the NMC's satellite offices.

This rule amends 46 CFR 24.20-1 to correct the formatting. Currently, the first paragraph in 24.20-1 is designated as paragraph (a), which is incorrect because there is no paragraph (b).

This rule amends 46 CFR 25.01-1 to add a note stating that additional Coast Guard regulations applicable to Uninspected Passenger Vessels can be found in 33 CFR.

This rule amends 46 CFR 27.102 to correct a typographical error.

This rule amends 46 CFR 39.20-9 to correct a CFR reference.

This rule amends 46 CFR 46.10-60 to reflect the new Customs and Border Protection title Director, Field Operations, and to correct a formatting error: currently, the first paragraph is designated as paragraph (a), which is incorrect because there is no paragraph (b).

This rule amends 46 CFR 61.20-17, 61.20-21, and 61.40-10 to correct typographical errors.

This rule amends 46 CFR 67.3 to update the address and the title for the U.S. Customs office, and to update a reference to the Secretary of Transportation; the responsible party is now the Secretary of Homeland Security.

This rule amends 46 CFR 76.33-15 to correct a typographical error.

This rule amends 46 CFR 90.35-5 to correct a formatting error.

This rule amends 46 CFR 111.105-31 to correct a measurement whose decimal point is currently misplaced.

This rule amends 46 CFR 117.15 to remove the obsolete “grandfather” time provisions associated with these regulations. It also redesignates 46 CFR 117.15 and amends 117.200 to reflect that redesignation.

This rule amends 46 CFR 147.5 to correct a typographical error, and correct the format of a phone number.

This rule amends 46 CFR 148.3 to update an email address.

This rule amends 46 CFR 148.140 to correct the format of a phone number.

This rule amends 46 CFR 150.115 to correct the format of a phone number and add a Web site address.

This rule amends 46 CFR part 150, Table II to Part 150, to add an email address.

This rule amends 46 CFR part 153, Table 1 to Part 153, to correct the format of a phone number.

This rule amends 46 CFR 153.1608 to update and reformat a phone number.

This rule amends 46 CFR 160.077-5 to correct a typographical error.

This rule amends 46 CFR 164.018-7 to correct an address that was mistyped; it appeared without spaces between the words.

This rule amends 46 CFR 167.20 to update an address that has changed.

This rule amends a table in 46 CFR 171.080 by correcting the footnote, which currently directs readers to the wrong CFR citation.

This rule amends 46 CFR 180.15 to remove the obsolete “grandfather” time provisions associated with these regulations. It also redesignates 46 CFR 180.15 and amends 180.200 to reflect that redesignation.

This rule amends 46 CFR 401.110 to clarify the definition of Secretary of Homeland Security, rendering it gender neutral.

IV. Regulatory Analyses

We developed this rule after considering numerous statutes and executive orders related to rulemaking. Below we summarize our analyses based on these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

This rule is not a significant regulatory action under section 3(f) of Executive Order 12866 and does not require an assessment of potential costs and benefits under section 6(a)(3) of that Order. The Office of Management and Budget has not reviewed it under that Order. Because this rule involves non-substantive changes and internal agency practices and procedures, it will not impose any additional costs on the public.

B. Small Entities

Under the Regulatory Flexibility Act (5 U.S.C. 601-612), rules exempt from the notice and comment requirements of the APA are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this rule and we do not expect it to have an impact on small entities because the provisions of this rule are technical and non-substantive. It will have no substantive effect on the public and will impose no additional costs. Therefore, the Coast Guard certifies under 5 U.S.C. 605(b) that this final rule will not have a significant economic impact on a substantial number of small entities.

C. Assistance for Small Entities

Under section 213(a) of the Small Business Regulatory Enforcement Fairness Act of 1996 (Pub. L. 104-121), we offer to assist small entities in understanding the rule so that they can better evaluate its effects on them and participate in the rulemaking. If the rule would affect your small business, organization, or governmental jurisdiction, and you have questions concerning its provisions or options for compliance, please consult Paul Crissy, Coast Guard; telephone 202-372-1093, email Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under Executive Order 13132, Federalism, if it has a substantial direct effect on State or local governments and would either preempt State law or impose a substantial direct cost of compliance on them. We have analyzed this rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we will discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or risk to safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866, as supplemented by Executive Order 13563, and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (NEPA)(42 U.S.C. 4321-4370f), and have concluded that this action is one of a category of actions that do not individually or cumulatively have a significant effect on the human environment. This rule is categorically excluded under section 2.B.2, figure 2-1, paragraphs (34)(a) and (b) of the Instruction. This rule involves regulations that are editorial, procedural, and involve internal agency functions. An environmental analysis checklist and a categorical exclusion determination are available in the docket where indicated under ADDRESSES.

List of Subjects

46 CFR Part 1

Administrative practice and procedure, Organization and functions (Government agencies), Reporting and recordkeeping requirements.

46 CFR Parts 2, 170 and 174

Marine safety, Reporting and recordkeeping requirements, Vessels.

46 CFR Part 6

Navigation (water), Reporting and recordkeeping requirements, Vessels.

46 CFR Part 8

Administrative practice and procedure, Organizations and functions (Government agencies), Reporting and recordkeeping requirements, Vessels.

46 CFR Part 10

Penalties, Reporting and recordkeeping requirements, Schools, Seamen.

46 CFR Parts 11 and 12

Penalties, Reporting and recordkeeping requirements, Seamen.

46 CFR Part 15

Reporting and recordkeeping requirements, Seamen, Vessels.

46 CFR Part 16

Drug testing, Marine safety, Reporting and recordkeeping requirements, Safety, Transportation.

46 CFR Part 24

Marine safety.

46 CFR Parts 25, 161, and 164

Fire prevention, Marine safety, Reporting and recordkeeping requirements.

46 CFR Part 26

Marine safety, Penalties, Reporting and recordkeeping requirements.

46 CFR Part 27

Fire Prevention, Marine safety, Reporting and recordkeeping requirements, Vessels.

46 CFR Part 28

Alaska, Fire prevention, Fishing vessels, Marine safety, Occupational safety and health, Reporting and recordkeeping requirements, Seamen.

46 CFR Part 30

Cargo vessels, Foreign relations, Hazardous materials transportation, Penalties, Reporting and recordkeeping requirements, Seamen.

46 CFR Parts 31, 91, 126, and 133

Cargo vessels, Marine safety, Reporting and recordkeeping requirements.

46 CFR Part 32

Cargo vessels, Fire prevention, Marine safety, Navigation (water), Occupational safety and health, Reporting and recordkeeping requirements, Seamen.

46 CFR Part 34

Cargo vessels, Fire prevention, Marine safety.

46 CFR Part 35

Cargo vessels, Marine safety, Navigation (water), Occupational safety and health, Reporting and recordkeeping requirements, Seamen.

46 CFR Part 39

Cargo vessels, Fire prevention, Hazardous materials transportation, Marine safety, Occupational safety and health, Reporting and recordkeeping requirements.

46 CFR Part 42

Penalties, Reporting and recordkeeping requirements, Vessels.

46 CFR Part 46

Passenger vessels, Penalties, Reporting and recordkeeping requirements.

46 CFR Part 50

Reporting and recordkeeping requirements, Vessels.

46 CFR Parts 52, 53, 54, 56, 57, 58, 59, 61, 62, 63, 64, 67, and 110

Reporting and recordkeeping requirements, Vessels.

46 CFR Parts 70, 71, 114, and 175

Marine safety, Passenger vessels, Reporting and recordkeeping requirements.

46 CFR Part 76

Fire prevention, Marine safety, Passenger vessels.

46 CFR Part 77

Marine safety, Navigation (water), Passenger vessels.

46 CFR Part 78

Marine safety, Navigation (water), Passenger vessels, Penalties, Reporting and recordkeeping requirements.

46 CFR Part 90

Cargo vessels, Marine safety.

46 CFR Part 92

Cargo vessels, Fire prevention, Marine safety, Occupational safety and health, Seamen.

46 CFR Part 95

Cargo vessels, Fire prevention, Marine safety.

46 CFR Part 96

Cargo vessels, Marine safety, Navigation (water).

46 CFR Parts 97 and 130

Cargo vessels, Marine safety, Navigation (water), Reporting and recordkeeping requirements.

46 CFR Parts 98 and 151

Cargo vessels, Hazardous materials transportation, Marine safety, Reporting and recordkeeping requirements, Water pollution control.

46 CFR Part 105

Cargo vessels, Fishing vessels, Hazardous materials transportation, Marine safety, Petroleum, Seamen.

46 CFR Part 107

Marine safety, Oil and gas exploration, Reporting and recordkeeping requirements, Vessels.

46 CFR Part 108

Fire prevention, Marine safety, Occupational safety and health, Oil and gas exploration, Vessels.

46 CFR Part 109

Marine safety, Occupational safety and health, Oil and gas exploration, Reporting and recordkeeping requirements, Vessels.

46 CFR Part 111

Vessels.

46 CFR Parts 114, and 175

Marine safety, Passenger vessels, Reporting and recordkeeping requirements.

46 CFR Part 117

Marine safety, Passenger vessels.

46 CFR Part 125

Administrative practice and procedure, Cargo vessels, Hazardous materials transportation, Marine safety, Seamen.

46 CFR Part 127

Cargo vessels, Fire prevention, Marine safety, Occupational safety and health, Reporting and recordkeeping requirements, Seamen.

46 CFR Part 128

Cargo vessels, Hazardous materials transportation, Marine safety, Reporting and recordkeeping requirements.

46 CFR Part 131

Cargo vessels, Fire prevention, Marine safety, Navigation (water), Occupational safety and health, Reporting and recordkeeping requirements.

46 CFR Part 134

Cargo vessels, Hazardous materials transportation, Marine safety, Occupational safety and health, Reporting and recordkeeping requirements, Seamen.

46 CFR Part 147

Hazardous materials transportation, Labeling, Marine safety, Packaging and containers, Reporting and recordkeeping requirements.

46 CFR Parts 148 and 172

Cargo vessels, Hazardous materials transportation, Marine safety.

46 CFR Part 150

Hazardous materials transportation, Marine safety, Occupational safety and health, Reporting and recordkeeping requirements.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 159

Business and industry, Laboratories, Marine safety, Reporting and recordkeeping requirements.

46 CFR Part 160

Marine safety, Reporting and recordkeeping requirements.

46 CFR Part 162

Fire prevention, Marine safety, Oil pollution, Reporting and recordkeeping requirements.

46 CFR Part 167

Fire prevention, Marine safety, Reporting and recordkeeping requirements, Schools, Seamen, Vessels.

46 CFR Part 169

Fire prevention, Marine safety, Reporting and recordkeeping requirements, Schools, Vessels.

46 CFR Parts 171, 179 and 180

Marine safety, Passenger vessels.

46 CFR Part 188

Marine safety, Oceanographic research vessels.

46 CFR Part 189

Marine safety, Oceanographic research vessels, Reporting and recordkeeping requirements.

46 CFR Part 193

Fire prevention, Marine safety, Oceanographic research vessels.

46 CFR Part 194

Explosives, Hazardous materials transportation, Marine safety, Oceanographic research vessels.

46 CFR Part 195

Marine safety, Navigation (water), Oceanographic research vessels.

46 CFR Part 197

Benzene, Diving, Marine safety, Occupational safety and health, Reporting and recordkeeping requirements, Vessels.

46 CFR Part 199

Cargo vessels, Marine safety, Oil and gas exploration, Passenger vessels, Reporting and recordkeeping requirements.

46 CFR Part 401

Administrative practice and procedure, Great Lakes, Navigation (water), Penalties, Reporting and recordkeeping requirements, Seamen.

49 CFR Parts 450 and 452

Freight, Packaging and containers, Reporting and recordkeeping requirements, Safety.

49 CFR Part 451

Freight, Packaging and containers, Safety.

49 CFR Part 453

Administrative practice and procedure, Freight, Packaging and containers, Safety.

For the reasons discussed in the preamble, the Coast Guard amends 46 CFR parts 1, 2, 6, 8, 10, 11, 12, 15, 16, 24, 25, 26, 27, 28, 30, 31, 32, 34, 35, 39, 42, 46, 50, 52, 53, 54, 56, 57, 58, 59, 61, 62, 63, 64, 67, 70, 71, 76, 77, 78, 90, 91, 92, 95, 96, 97, 98, 105, 107, 108, 109, 110, 111, 114, 117, 125, 126, 127, 128, 130, 131, 133, 134, 147, 148, 150, 151, 153, 154, 159, 160, 161, 162, 164, 167, 169, 170, 171, 172, 174, 175, 179, 180, 188, 189, 193, 194, 195, 197, 199, and 401, and 49 CFR parts 450, 451, 452, and 453, as follows:

Title 46

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

PART 1—[AMENDED]

2. In the table below, for each section indicated in the left column, remove the text indicated in the middle column from wherever it appears, and add, in its place, the text indicated in the right column:

Section | Remove | Add
1.01-10(b)(1) introductory text | (CG-553) | (CG-NAV).
1.01-10(b)(1) introductory text | Assistant Commandant for Marine Safety, Security, and Stewardship (CG-5) | Deputy for Operations Policy and Capabilities (CG-DCO-D).
1.01-10(b)(1) introductory text | Commercial Regulations and Standards Directorate (CG-52) | Director of Commercial Regulations and Standards (CG-5PS).
1.01-10(b)(1) introductory text | (CG-521) | (CG-ENG).
1.01-10(b)(1) introductory text | (CG-522) | (CG-OES).
1.01-10(b)(1) introductory text | (CG-523) | (CG-REG).
1.01-10(b)(1) introductory text | Response Policy Directorate (CG-53) | Assistant Commandant for Response Policy (CG-5R).
1.01-10(b)(1) introductory text | Office of Law Enforcement (CG-531) | Office of Law Enforcement Policy (CG-MLE).
1.01-10(b)(1) introductory text | (CG-532) | (CG-DOD).
1.01-10(b)(1) introductory text | Office of Incident Management and Preparedness (CG-533) | Office of Environmental Response Policy (CG-MER).
1.01-10(b)(1) introductory text | (CG-534) | (CG-SAR).
1.01-10(b)(1) introductory text | Office of Contingency Exercises (CG-535) | Office of Crisis and Contingency Planning and Exercise Policy (CG-CPE).
1.01-10(b)(1) introductory text | Prevention Policy Directorate (CG-54) | Assistant Commandant for Prevention Policy (CG-5P).
1.01-10(b)(1) introductory text | Office of International and Domestic Port Security (CG-541) | Office of International and Domestic Port Assessment (CG-PSA).
1.01-10(b)(1) | (CG-542) | (CG-BSX).
1.01-10(b)(1) | Office of Vessel Activities (CG-543) | Office of Commercial Vessel Compliance (CG-CVC).
1.01-10(b)(1) introductory text | (CG-544) | (CG-FAC).
1.01-10(b)(1) introductory text | (CG-545) | (CG-INV).
1.01-10(b)(1) introductory text | Marine Transportation and Systems Management Directorate (CG-55). | Director of Marine Transportation Systems (CG-5PW)
1.01-10(b)(1) introductory text | (CG-551) | (CG-BRG).
1.01-10(b)(1) introductory text | Office of Marine Transportation Systems (CG-552) | Office of Waterways and Ocean Policy (CG-WWM).
1.01-10(b)(1)(i) introductory text | Assistant Commandant for Marine Safety, Security, and Stewardship (CG-5). | Deputy for Operations Policy and Capabilities (CG-DCO-D).
1.01-10(b)(1)(i) introductory text | (CG-52) | (CG-5PS).
1.01-10(b)(1)(i)(A) | Assistant Commandant for Marine Safety, Security, and Stewardship (CG-5) | Deputy for Operations Policy and Capabilities (CG-DCO-D).
1.01-10(b)(1)(i)(A) | (CG-52) | (CG-5PS).
1.01-10(b)(1)(i)(A) | (CG-521) | (CG-ENG).
1.01-10(b)(1)(i)(B) | (CG-522) | (CG-OES).
1.01-10(b)(1)(i)(B) | Assistant Commandant for Marine Safety, Security, and Stewardship (CG-5) | Deputy for Operations Policy and Capabilities (CG-DCO-D).
1.01-10(b)(1)(i)(B) | (CG-52) | (CG-5PS).
1.01-10(b)(1)(i)(C) | (CG-523) | (CG-REG).
1.01-10(b)(1)(i)(C) | Assistant Commandant for Marine Safety, Security, and Stewardship (CG-5) | Deputy for Operations Policy and Capabilities (CG-DCO-D).
1.01-10(b)(1)(i)(C) | (CG-52) | (CG-5PS).
1.01-10(b)(1)(i)(D) | Assistant Commandant for Marine Safety, Security, and Stewardship (CG-5) | Deputy for Operations Policy and Capabilities (CG-DCO-D).
1.01-10(b)(1)(i)(D) | (CG-52) | (CG-5PS).
1.01-10(b)(1)(ii) introductory text | Director of Prevention Policy (CG-54) | Assistant Commandant for Prevention Policy (CG-5P).
1.01-10(b)(1)(ii) introductory text | Assistant Commandant for Marine Safety, Security, and Stewardship (CG-5) | Deputy for Operations Policy and Capabilities (CG-DCO-D).
1.01-10(b)(1)(ii)(A) | Office of Vessel Activities (CG-543) | Office of Commercial Vessel Compliance (CG-CVC).
1.01-10(b)(1)(ii)(A) | Assistant Commandant for Marine Safety, Security, and Stewardship (CG-5) | Deputy for Operations Policy and Capabilities (CG-DCO-D).
1.01-10(b)(1)(ii)(A) | Director of Prevention Policy (CG-54) | Assistant Commandant for Prevention Policy (CG-5P).
1.01-10(b)(1)(ii)(B) | Assistant Commandant for Marine Safety, Security, and Stewardship (CG-5) | Deputy for Operations Policy and Capabilities (CG-DCO-D).
1.01-10(b)(1)(ii)(B) | Director of Response Policy (CG-53) | Assistant Commandant for Response Policy (CG-5R).
1.01-10(b)(1)(ii)(B) | Office of Incident Management and Preparedness (CG-533) | Office of Environmental Response Policy (CG-MER).
1.01-10(b)(1)(ii)(C) | Assistant Commandant for Marine Safety, Security, and Stewardship (CG-5) | Deputy for Operations Policy and Capabilities (CG-DCO-D).
1.01-10(b)(1)(ii)(C) | Director of Prevention Policy (CG-54) | Assistant Commandant for Prevention Policy (CG-5P).
1.01-10(b)(1)(ii)(C) | (CG-545) | (CG-INV).
1.01-10(b)(1)(ii)(D) | Assistant Commandant for Marine Safety, Security, and Stewardship (CG-5) | Deputy for Operations Policy and Capabilities (CG-DCO-D).
1.01-10(b)(1)(11)(D) | 17 Regional Examination Centers | NMC detachments.
1.01-15(a)(1) | Boating Safety Division | Boating Safety Division (CG-BSX-2).
1.01-15(a)(2) | Boating Safety Division | Boating Safety Division (CG-BSX-2).
1.01-15(c)(2) | Regional Examination Center (REC) | NMC detachment.
1.01-15(e) | Regional Examination Centers | NMC detachments.
1.01-15(e) | Regional Examination Locations | NMC detachment locations.
1.03-15(h)(1) | (CG-543) | (CG-CVC).
1.03-15(h)(2) | (CG-52) | (CG-5PS).
1.03-15(h)(3) | (CG-54d) | (CG-5P).
1.03-15(h)(3) | 2100 2nd St. SW | 2100 2nd Street SW.
1.03-15(h)(4) | (CG-521) | (CG-ENG).
1.03-15(h)(5) | (CG-55) | (CG-5PW).
1.03-15(j) | Assistant Commandant for Marine Safety and Environmental Protection | Deputy for Operations Policy and Capabilities (CG-DCO-D).
1.03-40 | Director of Prevention Policy (CG-54) | Assistant Commandant for Prevention Policy (CG-5P).
1.03-45 | Director of Prevention Policy, Commandant (CG-54) | Assistant Commandant for Prevention Policy (CG-5P).
1.03-50 | (CG-5) | (CG-DCO-D).
1.03-50 | Director, Great Lakes Pilotage | Great Lakes Pilotage Division (CG-WWM-2).

PART 2—VESSEL INSPECTIONS

3. The authority citation for part 2 continues to read as follows:

Authority: 33 U.S.C. 1903; 43 U.S.C. 1333; 46 U.S.C. 2110, 3103, 3205, 3306, 3307, 3703; 46 U.S.C. Chapter 701; E.O. 12234, 45 FR 58801, 3 CFR, 1980 Comp., p. 277; Department of Homeland Security Delegation No. 0170.1. Subpart 2.45 also issued under the Act Dec. 27, 1950, Ch. 1155, secs. 1, 2, 64 Stat. 1120 (see 46 U.S.C. App. Note prec. 1).

4. Revise § 2.10-20(d) introductory text, (d)(1) introductory text, and (d)(1)(i) to read as follows:

§ 2.10-20 General requirements.

* * * * *

(d) Unless otherwise specified or if payment is made through www.pay.gov, fees required by this subpart must be submitted using one of the following methods:

(1) For COI and COC Inspections:

(i) For payment by credit card, online through www.pay.gov, or U.S. Coast Guard Finance Center (OGR), 1430A Kristina Way, Chesapeake, VA 23326.

* * * * *

5. In the table below, for each section indicated in the left column, remove the text indicated in the middle column from wherever it appears, and add, in its place, the text indicated in the right column:

Section | Remove | Add
2.75-1(c) | Assistant Commandant for Marine Safety, Security and Stewardship | Deputy for Operations Policy and Capabilities (CG-DCO-D).
2.75-1(d) | (CG-521) | (CG-ENG).
2.75-5(a) | Assistant Commandant for Marine Safety, Security and Environmental Protection | Deputy for Operations Policy and Capabilities (CG-DCO-D).
2.75-10(b) | (CG-521) | (CG-ENG).
2.75-15(a) | (CG-521) | (CG-ENG).
2.75-25(c)(1) | Commandant (CG-52), United States Coast Guard, Washington, DC 20593 | Commandant (CG-5PS), U.S. Coast Guard, 2100 2nd Street SW., Stop 7126, Washington, DC 20593-7126.
2.75-50(c) | (CG-52) | (CG-5PS).

PART 6— WAIVERS OF NAVIGATION AND VESSEL INSPECTION LAWS AND REGULATIONS

6. The authority citation for part 6 continues to read as follows:

Authority: Act Dec. 27, 1950, Ch. 1155, secs. 1, 2, 64 Stat. 1120 (see 46 U.S.C. App. note prec. 1); Department of Homeland Security Delegation No. 0170.1.

§ 6.06 [Amended]

7. Amend § 6.06(b) introductory text by removing the phrase “(CG-543)” and adding, in its place, the phrase “(CG-CVC)”.

PART 8— VESSEL INSPECTION ALTERNATIVES

8. The authority citation for part 8 continues to read as follows:

Authority: 33 U.S.C. 3803 and 3821; 46 U.S.C. 3103, 3306, 3316, 3703; Department of Homeland Security Delegation No. 0170.1 and Aug. 8, 2011 Delegation of Authority, Anti-Fouling Systems.

PART 8—[AMENDED]

9. In the table below, for each section indicated in the left column, remove the text indicated in the middle column from wherever it appears, and add, in its place, the text indicated in the right column:

Section | Remove | Add
8.110(a) | (CG-521) | (CG-ENG).
8.130(a)(5) | (CG-543) | (CG-CVC).
8.130(a)(6) | (CG-543) | (CG-CVC).
8.130(a)(7) | (CG-543) | (CG-CVC).
8.130(a)(11) | (CG-521) | (CG-ENG).
8.130(a)(11) | (CG-543) | (CG-CVC).
8.130(a)(13) | (CG-543) | (CG-CVC).
8.130(a)(19) | (CG-5) | (CG-DCO-D).
8.130(a)(20) | (CG-52) | (CG-5PS).
8.130(a)(21) | (CG-5) | (CG-DCO-D).
8.240(a) | (CG-521) | (CG-ENG).
8.430 | (CG-521) | (CG-ENG).
8.440(d)(3) | Office of Compliance, Commandant (CG-543) | Office of Commercial Vessel Compliance, Commandant (CG-CVC).

PART 10—MERCHANT MARINER CREDENTIAL

10. The authority citation for part 10 continues to read as follows:

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

§ 10.103 [Amended]

11. Amend § 10.103(a) by removing the phrase “Office of Operating and Environmental Standards (CG-5221)” and adding, in its place, the phrase “Marine Personnel Qualifications Division (CG-OES-1)”.

12. Amend § 10.107(b) by removing the definition for “Regional examination center or REC” and adding, in alphabetical order, the new definition of “National Maritime Center Detachments” to read as follows:

§ 10.107 Definitions in subchapter B.

* * * * *

National Maritime Center Detachments means a Coast Guard office that supports the National Maritime Center in the issuance of merchant mariners' credentials and endorsements.

* * * * *

§ 10.217 [Amended]

13-14. In § 10.217—

a. Amend paragraph (a) to remove the text “Regional Examination Centers”, and add, in its place, the text “NMC detachments”; and

b. Amend paragraph (a) to remove the text “Regional Examination Center”, and add, in its place, the text “NMC detachment”.

c. Amend paragraph (c)(1) to remove the text “RECs” and add, in its place, the text “NMC detachments”.

PART 11—REQUIREMENTS FOR OFFICER ENDORSEMENTS

15. The authority citation for part 11 continues to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

§ 11.102 [Amended]

16. Amend § 11.102(a) by removing the phrase “Office of Operating and Environmental Standards (CG- 5221)” and adding, in its place, the phrase “Marine Personnel Qualifications Division (CG-OES-1)”.

§ 11.309 [Amended]

17. Amend § 11.309(c)(2) by removing the phrase “(CG-543)” and adding, in its place, the phrase “(CG-CVC)”.

PART 12—REQUIREMENTS FOR RATING ENDORSEMENTS

18. The authority citation for part 12 continues to read as follows:

Authority: 31 U.S.C. 9701; 46 U.S.C. 2101, 2103, 2110, 7301, 7302, 7503, 7505, 7701, and 70105; Department of Homeland Security Delegation No. 0170.1.

§ 12.01-3 [Amended]

19. Amend § 12.01-3(a) by removing the phrase “Office of Operating and Environmental Standards (CG-5221)” and adding, in its place, the phrase “Marine Personnel Qualifications Division (CG-OES-1)”.

PART 15—MANNING REQUIREMENTS

20. The authority citation for part 15 continues to read as follows:

Authority: 46 U.S.C. 2101, 2103, 3306, 3703, 8101, 8102, 8104, 8105, 8301, 8304, 8502, 8503, 8701, 8702, 8901, 8902, 8903, 8904, 8905(b), 8906, 9102, and 8103; and Department of Homeland Security Delegation No. 0170.1.

§ 15.105 [Amended]

21. Amend § 15.105(a) by removing the phrase “(CG-522)” and adding, in its place, the phrase “(CG-OES)”.

PART 16—CHEMICAL TESTING

22. The authority citation for part 16 continues to read as follows:

Authority: 46 U.S.C. 2103, 3306, 7101, 7301, and 7701; Department of Homeland Security Delegation No. 0170.1.

PART 16—[AMENDED]

23. In the table below, for each section indicated in the left column, remove the text indicated in the middle column from wherever it appears, and add, in its place, the text indicated in the right column:

Section | Remove | Add
16.107(a) | (CG-545) | (CG-INV).
16.107(b) | (CG-545) | (CG-INV).
16.205(b) | (CG-545) | (CG-INV).
16.500(b)(1) | (CG-545) | (CG-INV).

PART 24—GENERAL PROVISIONS

24. The authority citation for part 24 continues to read as follows:

Authority: 46 U.S.C. 2113, 3306, 4104, 4302; Pub. L. 103-206; 107 Stat.2439; E.O. 12234; 45 FR 58801, 3 CFR, 1980 Comp., p. 277; Department of Homeland Security Delegation No. 0170.1.

25. Revise § 24.20-1 to read as follows:

§ 24.20-1 Marine engineering details.

All marine engineering details relative to the design, construction, and testing of boilers and machinery on steam-propelled motorboats of over 40 feet in length will be found in subchapter F (Marine Engineering) of this chapter.

PART 25—REQUIREMENTS

26. The authority citation for part 25 continues to read as follows:

Authority: 33 U.S.C. 1903(b); 46 U.S.C. 3306, 4102, 4302; Department of Homeland Security Delegation No. 0170.1.

27. Revise § 25.01-1 to read as follows:

§ 25.01-1 Applicable to all vessels.

The provisions of this part shall apply to all vessels except as specifically noted.

Note to § 25.01-1: 33 CFR parts 175, 177, 179, 181 and 183 contain additional regulations applicable to Uninspected Passenger Vessels.

PART 25—[AMENDED]

28. In the table below, for each section indicated in the left column, remove the text indicated in the middle column from wherever it appears and add, in its place, the text indicated in the right column:

Section | Remove | Add
25.01-3(a) | Office of Vessel Activities (CG-543) | Office of Commercial Vessel Compliance (CG-CVC).
25.30-15 | (CG-5214) | (CG-ENG-4).
25.45-1(a) introductory text | (CG-521) | (CG-ENG).
25.45-2(a) | (CG-521) | (CG-ENG).

PART 26—OPERATIONS

29. The authority citation for part 26 continues to read as follows:

Authority: 46 U.S.C. 3306, 4104, 6101, 8105; Pub. L. 103-206, 107 Stat. 2439; E.O. 12234, 45 FR 58801, 3 CFR, 1980 Comp., p. 277; Department of Homeland Security Delegation No. 0170.1.

§ 26.03-8 [Amended]

30. Amend § 26.03-8(a) by removing the phrase “(CG-543)” and adding, in its place, the phrase “(CG-CVC)”.

PART 27—TOWING VESSELS

31. The authority citation for part 27 continues to read as follows:

Authority: 46 U.S.C. 3306, 4102 (as amended by Pub. L. 104-324, 110 Stat. 3901); Department of Homeland Security Delegation No. 0170.1.

§ 27.102 [Amended]

32. Amend § 27.102(a) by removing the text “(CG-521), 21002nd St.” and adding, in its place, the text “(CG-ENG), 2100 2nd Street”.

§ 27.211 [Amended]

33. Amend § 27.211(c) by removing the text “(CG-521)” and adding, in its place, the text “(CG-ENG)”.

PART 28—REQUIREMENTS FOR COMMERCIAL FISHING INDUSTRY VESSELS

34. The authority citation for part 28 continues to read as follows:

Authority: 46 U.S.C. 3316, 4502, 4505, 4506, 6104, 10603; Department of Homeland Security Delegation No. 0170.1.

§ 28.40 [Amended]

35. Amend § 28.40(a) by removing the text “(CG-521)” and adding, in its place, the text “(CG-ENG)”.

§ 28.50 [Amended]

36. Amend § 28.50 by removing the text “(CG-5433)” from the definition of “Coast Guard Representative” and adding, in its place, the text “(CG-CVC-3)”.

PART 30—GENERAL PROVISIONS

37. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.01-3 [Amended]

38. Amend § 30.01-3(a) by removing the text “(CG-521)” and adding, in its place, the text “(CG-ENG)”.

§ 30.30-5 [Amended]

39. Amend § 30.30-5(a) by removing the phrase “(CG-543)” and adding, in its place, the phrase “(CG-CVC)”.

§ 30.30-7 [Amended]

40. Amend § 30.30-7 by removing the text “Coast Guard Headquarters, Room 1104, 2100 Second Street SW., Washington, DC 20593”, and adding, in its place, the text “U.S. Coast Guard, Room 1104, 2100 2nd Street SW., Stop 7126, Washington, DC 20593-7126”.

PART 31—INSPECTION AND CERTIFICATION

41. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

PART 31—[AMENDED]

42. In the table below, for each section indicated in the left column, remove the text indicated in the middle column from wherever it appears, and add, in its place, the text indicated in the right column:

Section | Remove | Add
31.01-3(b) | (CG-521) | (CG-ENG).
31.10-1(b) | (CG-52) | (CG-5PS).
31.10-16(e) introductory text | (CG-543) | (CG-CVC).
31.10-21(e)(1) | (CG-543) | (CG-CVC).
31.10-21(e)(3) | (CG-543) | (CG-CVC).
31.10-21(g) | (CG-543) | (CG-CVC).

PART 32—SPECIAL EQUIPMENT, MACHINERY, AND HULL REQUIREMENTS

43. The authority citation for part 32 continues to read as follows:

Authority: 46 U.S.C. 2103, 3306, 3703, 3719; E.O. 12234, 45 FR 58801, 3 CFR, 1980 Comp., p. 277; Department of Homeland Security Delegation No. 0170.1; Subpart 32.59 also issued under the authority of Sec. 4109, Pub. L. 101-380, 104 Stat. 515.

PART 32—[AMENDED]

44. In the table below, for each section indicated in the left column, remove the text indicated in the middle column from wherever it appears, and add, in its place, the text indicated in the right column:

Section | Remove | Add
32.01-1(a) | (CG-521) | (CG-ENG).
32.53-3(a) | Assistant Commandant for Marine Safety and Environmental Protection | Deputy for Operations Policy and Capabilities (CG-DCO-D).
32.53-3(b) | (CG-522) | (CG-OES).
32.53-3(d) | Assistant Commandant for Marine Safety and Environmental Protection | Deputy for Operations Policy and Capabilities (CG-DCO-D).
32.53-3(e) | Assistant Commandant for Marine Safety and Environmental Protection | Deputy for Operations Policy and Capabilities (CG-DCO-D).

PART 34—FIREFIGHTING EQUIPMENT

45. The authority citation for part 34 continues to read as follows:

Authority: 46 U.S.C. 3306, 3703; E.O. 12234, 45 FR 58801, 3 CFR, 1980 Comp., p. 277; Department of Homeland Security Delegation No. 0170.1.

PART 34—[AMENDED]

46. Amend § 34.01-15(a) by removing the text “(CG-521)” and adding, in its place, the text “(CG-ENG)”.

PART 35—OPERATIONS

47. The authority citation for part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 35.01-3 [Amended]

48. Amend § 35.01-3(a) by removing the text “(CG-522)” and adding, in its place, the text “(CG-OES)”.

PART 39—VAPOR CONTROL SYSTEMS

49. The authority citation for Part 39 continues to read as follows:

Authority: 33 U.S.C. 1231; 46 U.S.C. 3306, 3703, 3715(b); 45 FR 58801, 3 CFR, 1980 Comp., p. 277; Department of Homeland Security Delegation No. 0170.1.

PART 39—[AMENDED]

50. In the table below, for each section indicated in the left column, remove the text indicated in the middle column from wherever it appears, and add, in its place, the text indicated in the right column:

Section | Remove | Add
39.10-1(b) | (CG-522) | (CG-OES).
39.10-5(a) | (CG-522) | (CG-OES).
39.10-9 | (CG-522) | (CG-OES).
39.20-1(a)(1) | (CG-522) | (CG-OES).
39.20-9(b)(7) | § 111.105-15(b) | § 111.105-11(b).
39.20-9(d) | (CG-522) | (CG-OES).
39.40-1(b) | (CG-522) | (CG-OES).
39.40-1(c) | (CG-522) | (CG-OES).
39.40-1(e) | (CG-522) | (CG-OES).

PART 42—DOMESTIC AND FOREIGN VOYAGES BY SEA

51. The authority citation for Part 42 continues to read as follows:

Authority: 46 U.S.C. 5101-5116; Department of Homeland Security Delegation No. 0170.1; section 42.01-5 also issued under the authority of 44 U.S.C. 3507.

PART 42—[AMENDED]

52. In the table below, for each section indicated in the left column, remove the text indicated in the middle column from wherever it appears, and add, in its place, the text indicated in the right column:

Section | Remove | Add
42.07-60(a) | District Director of Customs | Director, Field Operations (DFO).
42.07-60(b) | District Director of Customs | Director, Field Operations (DFO).
42.07-60(c) | District Director of Customs | Director, Field Operations (DFO).

PART 46—SUBDIVISION LOAD LINES FOR PASSENGER VESSELS

53. The authority citation for part 46 continues to read as follows:

Authority: 46 U.S.C. 3306; 46 U.S.C. 5101-5116; E.O. 12234, 3 CFR, 1980 Comp., p. 277; Department of Homeland Security Delegation No. 0170.1.

54. Revise § 46.10-60 to read as follows:

§ 46.10-60 Control.

The Director, Field Operations (DFO) or the Coast Guard District Commander may detain a passenger vessel for a survey if there is reason to believe that such a vessel is proceeding on her journey in excess of the draft allowed by the regulations in this part as indicated by the vessel's load lines certified on the safety certificate, load line certificate, or otherwise. The Coast Guard District Commander may detain a passenger vessel if it is so loaded as to be manifestly unsafe to proceed to sea. Except as otherwise required by this section, § 42.07-60 of this subchapter applies to all passenger vessels assigned load lines under the load line acts and the regulations of this subchapter.

PART 50—GENERAL PROVISIONS

55. The authority citation for part 50 continues to read as follows:

Authority: 43 U.S.C. 1333; 46 U.S.C. 3306, 3703; E.O. 12234, 45 FR 58801, 3 CFR, 1980 Comp., p. 277; Department of Homeland Security Delegation No. 0170.1; Section 50.01-20 also issued under the authority of 44 U.S.C. 3507.

§ 50.25-1 [Amended]

56. Amend § 50.25-1(e) by removing the text “(CG-521)” and adding, in its place, the text “(CG-ENG)”.

PART 52—POWER BOILERS

57. The authority citation for part 52 continues to read as follows:

Authority: 46 U.S.C. 3306, 3307, 3703; E.O. 12234, 45 FR 58801, 3 CFR, 1980 Comp., p. 277; Department of Homeland Security Delegation No. 0170.1.

§ 52.01-1 [Amended]

58. Amend § 52.01-1(a) by removing the text “(CG-521)” and adding, in its place, the text “(CG-ENG)”.

PART 53—HEATING BOILERS

59. The authority citation for part 53 continues to read as follows:

Authority: 46 U.S.C. 3306, 3703; E.O. 12234, 45 FR 58801, 3 CFR, 1980 Comp., p. 277; Department of Homeland Security Delegation No. 0170.1.

§ 53.01-1 [Amended]

60. Amend § 53.01-1(a) by removing the text “(CG-521)” and adding, in its place, the text “(CG-ENG)”.

PART 54—PRESSURE VESSELS

61. The authority citation for part 54 continues to read as follows:

Authority: 33 U.S.C. 1509; 43 U.S.C. 1333; 46 U.S.C. 3306, 3703; E.O. 12234, 45 FR 58801, 3 CFR, 1980 Comp., p. 277; Department of Homeland Security Delegation No. 0170.1.

PART 54—[AMENDED]

62. In the table below, for each section indicated in the left column, remove the text indicated in the middle column from wherever it appears, and add, in its place, the text indicated in the right column:

Section | Remove | Add
54.01-1(a) | (CG-521) | (CG-ENG).
54.05-30(b) | Coast Guard CG-521 | U.S. Coast Guard, Office of Design and Engineering Standards (CG-ENG), 2100 2nd St. SW., Stop 7126, Washington, DC 20593-7126.
54.05-30(c) | Coast Guard CG-521 | U.S. Coast Guard, Office of Design and Engineering Standards (CG-ENG).
54.15-25(c-1) | Commandant CG-521 | U.S. Coast Guard, Office of Design and Engineering Standards (CG-ENG).

PART 56—PIPING SYSTEMS AND APPURTENANCES

63. The authority citation for part 56 continues to read as follows:

Authority: 33 U.S.C. 1321(j), 1509; 43 U.S.C. 1333; 46 U.S.C. 3306, 3703; E.O. 12234, 45 FR 58801, 3 CFR, 1980 Comp., p. 277; E.O. 12777, 56 FR 54757, 3 CFR, 1991 Comp., p. 351; Department of Homeland Security Delegation No. 0170.1.

§ 56.01-2 [Amended]

64. Amend § 56.01-2(a) by removing the text “(CG-521)” and adding, in its place, the text “(CG-ENG)”.

§ 56.50-105 [Amended]

65. Amend § 56.50-105 by removing the text “CG-521” from Table 56.50-105 Note 3, and adding, in its place, the text “(CG-ENG)”.

PART 57—WELDING AND BRAZING

66. The authority citation for part 57 continues to read as follows:

Authority: 46 U.S.C. 3306, 3703, E.O. 12234, 45 FR 58801, 3 CFR, 1980 Comp., p. 277; 49 CFR 1.46.

§ 57.02-1 [Amended]

67. Amend § 57.02-1(a) by removing the text “(CG-521)” and adding, in its place, the text “(CG-ENG)”.

PART 58—MAIN AND AUXILIARY MACHINERY AND RELATED SYSTEMS

68. The authority citation for part 58 continues to read as follows:

Authority: 43 U.S.C. 1333; 46 U.S.C. 3306, 3703; E.O. 12234, 45 FR 58801, 3 CFR, 1980 Comp., p. 277; Department of Homeland Security Delegation No. 0170.1.

§ 58.03-1 [Amended]

69. Amend § 58.03-1(a) by removing the text “(CG-521)” and adding, in its place, the text “(CG-ENG)”.

§ 58.50-15 [Amended]

70. Amend § 58.50-15(a) by removing the text “(CG-521)” and adding, in its place, the text “(CG-ENG)”.

PART 59—REPAIRS TO BOILERS, PRESSURE VESSELS AND APPURTENANCES

71. The authority citation for part 59 continues to read as follows:

Authority: 46 U.S.C. 3306, 3703; E.O. 12234, 45 FR 58801, 3 CFR, 1980 Comp., p. 227; Department of Homeland Security Delegation No. 0170.1.

§ 59.01-2 [Amended]

72. Amend § 59.01-2(a) by removing the text “(CG-521)” and adding, in its place, the text “(CG-ENG)”.

PART 61—PERIODIC TESTS AND INSPECTIONS

73. The authority citation for part 61 continues to read as follows:

Authority: 43 U.S.C. 1333; 46 U.S.C. 2103, 3306, 3307, 3703; E.O. 12234, 45 FR 58801, 3 CFR 1980 Comp., p. 277; Department of Homeland Security Delegation No. 0170.1.

PART 61—[Amended]

74. In the table below, for each section indicated in the left column, remove the text indicated in the middle column from wherever it appears, and add, in its place, the text indicated in the right column:

Section | Remove | Add
61.03-1(a) | (CG-521) | (CG-ENG).
61.20-17(f)(2) | CG-543 | (CG-CVC).
61.20-21 | CG-543 | (CG-CVC).
61.40-10(b) | CG-521 | (CG-ENG).

PART 62—VITAL SYSTEM AUTOMATION

75. The authority citation for part 62 continues to read as follows:

Authority: 46 U.S.C. 3306, 3703, 8105; E.O. 12234, 45 FR 58801, 3 CFR, 1980 Comp., p. 277; Department of Homeland Security Delegation No. 0170.1.

§ 62.05-1 [Amended]

76. Amend § 62.05-1(a) by removing the text “(CG-521)” and adding, in its place, the text “(CG-ENG)”.

PART 63—AUTOMATIC AUXILIARY BOILERS

77. The authority citation for part 63 continues to read as follows:

Authority: 46 U.S.C. 3306, 3703; E.O. 12234, 45 FR 58801, 3 CFR, 1980 Comp., p. 277; Department of Homeland Security Delegation No. 0170.1.

§ 63.05-1 [Amended]

78. Amend § 63.05-1(a) by removing the text “(CG-521), 2100 Second Street, SW” and adding, in its place, the text “(CG-ENG), 2100 2nd Street, SW”.

PART 64—MARINE PORTABLE TANKS AND CARGO HANDLING SYSTEMS

79. The authority citation for part 64 continues to read as follows:

Authority: 46 U.S.C. 3306, 3703; 49 U.S.C. App. 1804; Department of Homeland Security Delegation No. 0170.1.

§ 64.2 [Amended]

80. Amend § 64.2(a) by removing the text “Marine Safety and Environmental Protection, 2100 Second Street SW., Washington, DC 20593-0001” and adding, in its place, the text “Deputy for Operations Policy and Capabilities (CG-DCO-D), U.S. Coast Guard, 2100 2nd Street, SW., Stop 7355, Washington, DC 20593-7355”.

PART 67—DOCUMENTATION OF VESSELS

81. The authority citation for part 67 continues to read as follows:

Authority: 14 U.S.C. 664; 31 U.S.C. 9701; 42 U.S.C. 9118; 46 U.S.C. 2103, 2107, 2110, 12106, 12120, 12122; 46 U.S.C. app. 841a, 876; Department of Homeland Security Delegation No. 0170.1.

§ 67.3 [Amended]

82. Amend § 67.3 as follows:

a. In the Note to the definition of “Endorsement” remove the text “U.S. Customs Service, 1300 Pennsylvania Avenue NW., Ronald Reagan Building, Washington DC 20229 (Entry Procedures and Carriers Branch)” and add, in its place, the text “U.S. Customs and Border Protection, 799 9th Street NW., Washington DC 20001 (Cargo Security, Carriers and Immigration Branch)”; and

b. Remove the word “Transportation” from the definition for “Secretary” and add, in its place, the words “Homeland Security”.

PART 70—GENERAL PROVISIONS

83. The authority citation for part 70 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1; Section 70.01-15 also issued under the authority of 44 U.S.C. 3507.

§ 70.10-1 [Amended]

84. Amend § 70.10-1 by removing the words “United States Coast Guard, Washington, DC 20593” from the definition of “Headquarters” and adding, in their place, the words “U.S. Coast Guard, 2100 2nd Street, SW., Stop 7126, Washington, DC 20593-7126”.

§ 70.35-5 [Amended]

85. Amend § 70.35-5(a) by removing the text “(CG-52)” and adding, in its place, the text “(CG-5PS)”.

PART 71—INSPECTION AND CERTIFICATION

86. The authority citation for part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

PART 71—[AMENDED]

87. In the table below, for each section indicated in the left column, remove the text indicated in the middle column from wherever it appears, and add, in its place, the text indicated in the right column:

Section | Remove | Add
71.15-5(b) | (CG-521) | (CG-ENG).
71.50-3(g) | (CG-543) | (CG-CVC).

PART 76—FIRE PROTECTION EQUIPMENT

88. The authority citation for part 76 continues to read as follows:

Authority: 46 U.S.C. 3306; E.O. 12234, 45 FR 58801, 3 CFR, 1980 Comp., p. 277; Department of Homeland Security Delegation No. 0170.1.

89. In the table below, for each section indicated in the left column, remove the text indicated in the middle column from wherever it appears, and add, in its place, the text indicated in the right column:

Section | Remove | Add
76.01-2(a) | (CG-521) | (CG-ENG).
76.33-15(e) | moisture | moisture.

PART 77—VESSEL CONTROL AND MISCELLANEOUS SYSTEMS AND EQUIPMENT

90. The authority citation for part 77 continues to read as follows:

Authority: 46 U.S.C. 3306; E.O. 12234, 45 FR 58801, 3 CFR, 1980 Comp., p. 277; Department of Homeland Security Delegation No. 0170.1.

§ 77.01-3 [Amended]

91. Amend § 77.01-3(a) by removing the text “(CG-521)” and adding, in its place, the text “(CG-ENG)”.

PART 78—OPERATIONS

92. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 78.01-2 [Amended]

93. Amend § 78.01-2(a) by removing the text “(CG-5214)” and adding, in its place, the text “(CG-ENG-4)”.

PART 90—GENERAL PROVISIONS

94. The authority citation for part 90 continues to read as follows:

Authority: 46 U.S.C. 3306, 3703; Pub. L. 103-206, 107 Stat. 2439; 49 U.S.C. 5103, 5106; E.O. 12234, 45 FR 58801, 3 CFR, 1980 Comp., p. 277; Department of Homeland Security Delegation No. 0170.1.

95. Revise § 90.35-5 to read as follows:

§ 90.35-5 Where obtainable.

The standards established by the American Bureau of Shipping are usually published annually and may be purchased from the American Bureau of Shipping, ABS Plaza, 16855 Northchase Drive, Houston, TX 77060. These standards may be also examined at the Office of the Commandant (CG-5PS), 2100 2nd St. SW., Stop 7126, Washington, DC 20593-7126, or at the Office of any Coast Guard District Commander or Officer in Charge, Marine Inspection.

PART 91—INSPECTION AND CERTIFICATION

96. The authority citation for part 91 continues to read as follows:

Authority: 33 U.S.C. 1321(j); 46 U.S.C. 3205, 3306, 3307; 46 U.S.C. Chapter 701; Executive Order 12234; 45 FR 58801; 3 CFR, 1980 Comp., p. 277; Executive Order 12777, 56 FR 54757, 3 CFR, 1991 Comp., p. 351; Department of Homeland Security Delegation No. 0170.1.

PART 91—[AMENDED]

97. In the table below, for each section indicated in the left column, remove the text indicated in the middle column from wherever it appears, and add, in its place, the text indicated in the right column:

Section | Remove | Add
91.15-5(b) | (CG-521) | (CG-ENG).
91.40-3(e)(1) | (CG-543) | (CG-CVC).
91.40-3(e)(3) | (CG-543) | (CG-CVC).
91.40-3(g) | (CG-543) | (CG-CVC).
91.55-15(a)(2) | (CG-521) | (CG-ENG).

PART 92—CONSTRUCTION AND ARRANGEMENT

98. The authority citation for part 92 continues to read as follows:

Authority: 46 U.S.C. 3306; E.O. 12234, 45 FR 58801, 3 CFR, 1980 Comp., p. 277; Department of Homeland Security Delegation No. 0170.1.

§ 92.01-2 [Amended]

99. Amend § 92.01-2(a) by removing the text “(CG-521)”, and adding, in its place, the text “(CG-ENG)”.

PART 95—FIRE PROTECTION EQUIPMENT

100. The authority citation for part 95 continues to read as follows:

Authority: 46 U.S.C. 3306; E.O. 12234, 45 FR 58801, 3 CFR, 1980 Comp., p. 277; Department of Homeland Security Delegation No. 0170.1.

§ 95.01-2 [Amended]

101. Amend § 95.01-2(a) by removing the text “(CG-521)”, and adding, in its place, the text “(CG-ENG)”.

PART 96—VESSEL CONTROL AND MISCELLANEOUS SYSTEMS AND EQUIPMENT

102. The authority citation for part 96 continues to read as follows:

Authority: 46 U.S.C. 3306; E.O. 12234, 45 FR 58801, 3 CFR, 1980 Comp., p. 277; Department of Homeland Security Delegation No. 0170.1.

§ 96.01-3 [Amended]

103. Amend § 96.01-3(a) by removing the text “(CG-521)”, and adding, in its place, the text “(CG-ENG)”.

PART 97—OPERATIONS

104. The authority citation for part 97 continues to read as follows:

Authority: 33 U.S.C. 1321(j); 46 U.S.C. 2103, 3306, 5111, 6101; 49 U.S.C. 5103, 5106; E.O. 12234, 45 FR 58801, 3 CFR, 1980 Comp., p. 277; E.O. 12777, 56 FR 54757; 3 CFR, 1991 Comp., p. 351; Department of Homeland Security Delegation No. 0170.1.

§ 97.01-2 [Amended]

105. Amend § 97.01-2(a) by removing the text “(CG-5214)”, and adding, in its place, the text “(CG-ENG-4)”.

PART 98—SPECIAL CONSTRUCTION, ARRANGEMENT, AND OTHER PROVISIONS FOR CERTAIN DANGEROUS CARGOES IN BULK

106. The authority citation for part 98 continues to read as follows:

Authority: 33 U.S.C. 1903; 46 U.S.C. 3306, 3307, 3703; 49 U.S.C. App. 1804; E.O. 12234, 45 FR 58801, 3 CFR, 1980 Comp., p. 277; Department of Homeland Security Delegation No. 0170.1.

PART 98—[AMENDED]

107. In the table below, for each section indicated in the left column, remove the text indicated in the middle column from wherever it appears, and add, in its place, the text indicated in the right column:

Section | Remove | Add
98.25-90(c) | (CG-522) | (CG-OES).
98.30-14(a)(2) | (CG-522) | (CG-OES).
98.30-14(a)(3) | (CG-522) | (CG-OES).
98.30-14(b)(1) | (CG-522) | (CG-OES).
98.30-14(b)(2) | (CG-522) | (CG-OES).
98.33-1(b)(1) (Note) | (G-MSO-3) | (CG-ENG-5).

PART 105—COMMERCIAL FISHING VESSELS DISPENSING PETROLEUM PRODUCTS

108. The authority citation for part 105 continues to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

§ 105.01-3 [Amended]

109. Amend § 105.01-3(a) by removing the text “(CG-521)”, and adding, in its place, the text “(CG-ENG)”.

PART 107—INSPECTION AND CERTIFICATION

110. The authority citation for part 107 continues to read as follows:

Authority: 43 U.S.C. 1333; 46 U.S.C. 3306, 3307; 46 U.S.C. 3316; Department of Homeland Security Delegation No. 0170.1; § 107.05 also issued under the authority of 44 U.S.C. 3507.

PART 107—[AMENDED]

111. In the table below, for each section indicated in the left column, remove the text indicated in the middle column from wherever it appears, and add, in its place, the text indicated in the right column:

Section | Remove | Add
107.117(a) | (CG-543) | (CG-CVC).
107.117(a) | (G-MOC) | (CG-CVC).
107.117(b) | (CG-521) | (CG-ENG).
107.205(b) | (CG-521) | (CG-ENG).
107.265(a)(2) | (CG-543) | (CG-CVC).
107.267(a)(2) | (CG-543) | (CG-CVC).
107.267(b) introductory text | (G-MOC) | (CG-CVC).
107.413(b) | (CG-543) | (CG-CVC).
107.413(c) | (CG-543) | (CG-CVC).
107.413(d) | (CG-543) | (CG-CVC).

PART 108—DESIGN AND EQUIPMENT

112. The authority citation for part 108 continues to read as follows:

Authority: 43 U.S.C. 1333; 46 U.S.C. 3102, 3306; Department of Homeland Security Delegation No. 0170.1.

PART 108—[AMENDED]

113. In the table below, for each section indicated in the left column, remove the text indicated in the middle column from wherever it appears, and add, in its place, the text indicated in the right column:

Section | Remove | Add
108.101(a) | (CG-521) | (CG-ENG).
108.105(a) | (CG-521) | (CG-ENG).
108.105(c) introductory text | (CG-521) | (CG-ENG).
108.201(a) | (CG-522) | (CG-OES).

PART 109—OPERATIONS

114. The authority citation for part 109 continues to read as follows:

Authority: 43 U.S.C. 1333; 46 U.S.C. 3306, 6101, 10104; Department of Homeland Security Delegation No. 0170.1.

PART 109—[AMENDED]

115. In the table below, for each section indicated in the left column, remove the text indicated in the middle column from wherever it appears, and add, in its place, the text indicated in the right column:

Section | Remove | Add
Part 109 Appendix A 4.f. | (CG-543) | (CG-CVC).
109.105(a) | (CG-521) | (CG-ENG).

PART 110—GENERAL PROVISIONS

116. The authority citation for part 110 continues to read as follows:

Authority: 33 U.S.C. 1509; 43 U.S.C. 1333; 46 U.S.C. 3306, 3307, 3703; E.O. 12234, 45 FR 58801, 3 CFR, 1980 Comp., p. 277; Department of Homeland Security Delegation No. 0170.1; § 110.01-2 also issued under 44 U.S.C. 3507.

§ 110.10-1 [Amended]

117. Amend § 110.10-1(a) by removing the text “(CG-521)”, and adding, in its place, the text “(CG-ENG)”.

PART 111—ELECTRIC SYSTEMS—GENERAL REQUIREMENTS

118. The authority citation for part 111 continues to read as follows:

Authority: 46 U.S.C. 3306, 3703; Department of Homeland Security Delegation No. 0170.1.

§ 111.105-31 [Amended]

119. Amend § 111.105-31(g) by removing the text “.025”, and adding, in its place, the text “0.25”.

§ 111.105-32 [Amended]

120. Amend § 111.105-32(c) by removing the text “(CG-521)”, and adding, in its place, the text “(CG-ENG)”.

PART 114—GENERAL PROVISIONS

121. The authority citation for part 114 continues to read as follows:

Authority: 46 U.S.C. 2103, 3306, 3703; Pub. L. 103-206, 107 Stat. 2439; 49 U.S.C. App. 1804; Department of Homeland Security Delegation No. 0170.1; § 114.900 also issued under 44 U.S.C. 3507.

§ 114.600 [Amended]

122. Amend § 114.600(a) by removing the text “(CG-522)”, and adding, in its place, the text “(CG-OES)”.

PART 117— LIFESAVING EQUIPMENT AND ARRANGEMENTS

123. The authority citation for part 117 continues to read as follows:

Authority: 46 U.S.C. 2103, 3306; E.O. 12234, 45 FR 58801, 3 CFR, 1980 Comp., p. 277; Department of Homeland Security Delegation No. 0170.1.

§ 117.15 [Amended]

124. Amend § 117.15 by removing paragraphs (a), (b), (d), (e), (f), (g), and (h), and redesignating paragraphs (c), (i) and (j) as paragraphs (a), (b) and (c) respectively.

§ 117.200 [Amended]

125. In § 117.200, following Table 117.200(c), remove the text “117.15(c)” from the abbreviation “LF” and add, in its place, the text “117.15(a)”.

PART 125—GENERAL

126. The authority citation for part 125 continues to read as follows:

Authority: 46 U.S.C. 2103, 3306, 3307; 49 U.S.C. App. 1804; Department of Homeland Security Delegation No. 0170.1.

PART 125—[AMENDED]

127. In the table below, for each section indicated in the left column, remove the text indicated in the middle column from wherever it appears, and add, in its place, the text indicated in the right column:

Section | Remove | Add
125.110(a) | (CG-522) | (CG-OES).
125.120(a) | (CG-522) | (CG-OES).
125.180(a) | (CG-522) | (CG-OES).

PART 126—INSPECTION AND CERTIFICATION

128. The authority citation for part 126 continues to read as follows:

Authority: 33 U.S.C. 1321(j); 46 U.S.C. 3205, 3306, 3307, 3702, 14104; 46 U.S.C. Chapter 701; Executive Order 11735, 38 FR 21243; 3 CFR 1971-1975 Comp., p. 793; Department of Homeland Security Delegation No. 0170.1.

PART 126—[AMENDED]

129. In the table below, for each section indicated in the left column, remove the text indicated in the middle column from wherever it appears, and add, in its place, the text indicated in the right column:

Section | Remove | Add
126.140(a) | (CG-543) | (CG-CVC).
126.140(g)(3) | (CG-543) | (CG-CVC).
126.235(b) | (CG-5212). | (CG-ENG-2)

PART 127—CONSTRUCTION AND ARRANGEMENTS

130. The authority citation for part 127 continues to read as follows:

Authority: 46 U.S.C. 3306; Department of Homeland Security Delegation No. 0170.1.

§ 127.210 [Amended]

131. Amend § 127.210(b) by removing the text “(CG-521)” and adding, in its place, the text “(CG-ENG)”.

PART 128—MARINE ENGINEERING: EQUIPMENT AND SYSTEMS

132. The authority citation for part 128 continues to read as follows:

Authority: 46 U.S.C. 3306; Department of Homeland Security Delegation No. 0170.1.

§ 128.310 [Amended]

133. Amend § 128.310(b) by removing the text “(CG-521)” and adding, in its place, the text “(CG-ENG)”.

PART 130—VESSEL CONTROL, AND MISCELLANEOUS EQUIPMENT AND SYSTEMS

134. The authority citation for part 130 continues to read as follows:

Authority: 46 U.S.C. 3306; Department of Homeland Security Delegation No. 0170.1.

§ 130.470 [Amended]

135. Amend § 130.470(a) by removing the text “(CG-521)” and adding, in its place, the text “(CG-ENG)”.

PART 131—OPERATIONS

136. The authority citation for part 131 continues to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

PART 131—[AMENDED]

137. In the table below, for each section indicated in the left column, remove the text indicated in the middle column from wherever it appears, and add, in its place, the text indicated in the right column:

Section | Remove | Add
131.530(b)(1) | (CG-543) | (CG-CVC).
131.535(b) | (CG-543) | (CG-CVC).
131.580(e) | (CG-521) | (CG-ENG).

PART 133—LIFESAVING SYSTEMS

138. The authority citation for part 133 continues to read as follows:

Authority: 46 U.S.C. 3306, 3307; Department of Homeland Security Delegation No. 0170.1.

PART 133—[AMENDED]

139. In the table below, for each section indicated in the left column, remove the text indicated in the middle column from wherever it appears, and add, in its place, the text indicated in the right column:

Section | Remove | Add
133.09 | (CG-521) | (CG-ENG).
133.40(c) introductory text | (CG-521) | (CG-ENG).

PART 134—ADDED PROVISIONS FOR LIFTBOATS

140. The authority citation for part 134 continues to read as follows:

Authority: 46 U.S.C. 3306, 3307; Department of Homeland Security Delegation No. 0170.1.

PART 134—[AMENDED]

141. In the table below, for each section indicated in the left column, remove the text indicated in the middle column from wherever it appears, and add, in its place, the text indicated in the right column:

Section | Remove | Add
134.140(a)(3) | (CG-521) | (CG-ENG).
134.140(b) | (CG-521) | (CG-ENG).

PART 147—HAZARDOUS SHIPS' STORES

142. The authority citation for part 147 continues to read as follows:

Authority: 46 U.S.C. 3306; E.O. 12234, 45 FR 58801, 3 CFR, 1980 Comp., p. 277; Department of Homeland Security Delegation No. 0170.1.

PART 147—[AMENDED]

143. In the table below, for each section indicated in the left column, remove the text indicated in the middle column from wherever it appears, and add, in its place, the text indicated in the right column:

Section | Remove | Add
147.5 (Heading) | (CG-522) | (CG-OES).
147.5 | (CG-522) | (CG-OES).
147.5 | and the telphone number is (202) 372-1401 | telephone 202-372-1401.
147.7(a) | (CG-522) | (CG-OES).
147.9(a) | (CG-522) | (CG-OES).
147.40 (Heading) | (CG-522) | (CG-OES).
147.40(a) introductory text | (CG-522) | (CG-OES).
147.40(b) | (CG-522) | (CG-OES).
147.40(c) | (CG-522) | (CG-OES).
147.50(d) | (CG-521) | (CG-ENG).
147.60(c)(2) | (CG-522) | (CG-OES).

PART 148—CARRIAGE OF BULK SOLID MATERIALS THAT REQUIRE SPECIAL HANDLING

144. The authority citation for part 148 continues to read as follows:

Authority: 33 U.S.C. 1602; E.O. 12234, 45 FR 58801, 3 CFR, 1980 Comp., p. 277; 46 U.S.C. 3306, 5111; 49 U.S.C. 5103; Department of Homeland Security Delegation No. 0170.1.

PART 148—[AMENDED]

145. In the table below, for each section indicated in the left column, remove the text indicated in the middle column from wherever it appears, and add, in its place, the text indicated in the right column:

Section | Remove | Add
148.3 “Commandant” definition | (CG-5223) | (CG-ENG-5).
148.3 “Commandant” definition | United States Coast Guard | U.S. Coast Guard.
148.3 “Commandant” definition | CG-5223 can be contacted at 202-372-1420 or Hazmat@comdt.uscg.mil | CG-ENG-5 can be contacted at 202-372-1420 or email: hazmatstandards@uscg.mil.
148.5(a) | (CG-5223) | (CG-ENG-5).
148.8(a) | Hazardous Materials Standards Division (CG-5223) | Hazardous Materials Division (CG-ENG-5).
148.15(b) | (CG-5223) | (CG-ENG-5),
148.15(c) | (CG-5223) | (CG-ENG-5).
148.25(b) | (CG-5223) | (CG-ENG-5).
148.30 | (CG-5223) | (CG-ENG-5).
148.55(b)(3) | (CG-5223) | (CG-ENG-5).
148.55(b)(4) | (CG-5223) | (CG-ENG-5).
148.115(b) | (CG-5223) | (CG-ENG-5).
148.115(c) | at (800) 424-8802 (toll free) or (202) 267-2675 | at 800-424-8802 (toll free) or 202-267-2675; or online at www.nrc.uscg.mil.
148.245(a)(1) | (CG-5223) | (CG-ENG-5).
148.250(a)(1) | (CG-5223) | (CG-ENG-5).
148.310(i) | (CG-5223) | (CG-ENG-5).

PART 150—COMPATIBILITY OF CARGOES

146. The authority citation for part 150 continues to read as follows:

Authority: 46 U.S.C. 3306, 3703; Department of Homeland Security Delegation No. 0170.1. Section 150.105 issued under 44 U.S.C. 3507; Department of Homeland Security Delegation No. 0170.1.

PART 150—[AMENDED]

147. In the table below, for each section indicated in the left column, remove the text indicated in the middle column from wherever it appears, and add, in its place, the text indicated in the right column:

Section | Remove | Add
150.140 | (G-MSO) (tel. no. (202) 372-1425) | (CG-ENG-5) (Telephone 202-372-1420).
150.150 (introductory text) | (G-MSO) | (CG-ENG-5).
150.160(a) | (G-MSO) | (CG-ENG-5).
Table I to Part 150, Note 1 | Commandant (G-MSO), U.S. Coast Guard, 2100 Second Street, SW., Washington, DC 20593-0001. Telephone (202) 372-1425. | Commandant (CG-ENG-5), Hazardous Materials Division, U.S. Coast Guard, 2100 2nd Street, SW., Stop 7126, Washington, DC 20593-7126. Telephone 202-372-1420; email: hazmatstandards@uscg.mil.
Table II to Part 150, Note 1 | Commandant (G-MSO), U.S. Coast Guard, 2100 Second Street, SW., Washington, DC 20593-0001. Telephone (202) 372-1425 | Commandant (CG-ENG-5), Hazardous Materials Division, U.S. Coast Guard, 2100 2nd Street, SW., Stop 7126, Washington, DC 20593-7126. Telephone 202-372-1420; email: hazmatstandards@uscg.mil.
Appendix III to Part 150; Step 3 | Send a copy of the Data Sheet for each binary chemical mixture tested to: Commandant (G-MSO), U.S. Coast Guard, Washington, DC 20593-0001 (CG-5223) | Send a copy of the Data Sheet for each binary chemical mixture tested to: Commandant (G-ENG-5), U.S. Coast Guard, 2100 2nd Street SW., Stop 7126, Washington, DC 20593-7126 (CG-ENG-5).

PART 151—BARGES CARRYING BULK LIQUID HAZARDOUS MATERIAL CARGOES

148. The authority citation for part 151 continues to read as follows:

Authority: 33 U.S.C. 1903; 46 U.S.C. 3703; Department of Homeland Security Delegation No. 0170.1.

PART 151—[AMENDED]

149. In the table below, for each section indicated in the left column, remove the text indicated in the middle column from wherever it appears, and add, in its place the text indicated in the right column:

Section | Remove | Add
151.50-20(i) | (CG-522) | (CG-ENG).
151.50-22(d) | (CG-522) | (CG-ENG).
151.50-23(e) | (CG-522) | (CG-ENG).
151.50-36(b) | (CG-522) | (CG-ENG).
151.50-50(n) | (CG-522) | (CG-ENG).
151.50-75 | (CG-522) | (CG-ENG).
151.50-76(b) | (CG-522) | (CG-ENG).
151.50-76(c) | (CG-522) | (CG-ENG).
151.50-76(g) | (CG-522) | (CG-ENG).
151.50-77(a) | (CG-522) | (CG-ENG).
151.50-80(c) | (CG-522) | (CG-ENG).
151.50-84(e)(2) | (CG-522) | (CG-ENG).

PART 153—SHIPS CARRYING BULK LIQUID, LIQUEFIED GAS, OR COMPRESSED GAS HAZARDOUS MATERIALS

150. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

PART 153—[AMENDED]

151. In the table below, for each section indicated in the left column, remove the text indicated in the middle column from wherever it appears, and add, in its place, the text indicated in the right column:

Section | Remove | Add
153.2 “Commandant” definition | 2100 Second Street SW., Washington, DC 20593-0001 | 2100 2nd Street SW., Stop 7126, Washington, DC 20593-7126.
153.4(a) | Office of Operating and Environmental Standards (CG-522) | Office of Design and Engineering Standards (CG-ENG).
153.7(b)(4) introductory text | (CG-522) | (CG-ENG).
153.7(b)(4)(iii) | (CG-522) | (CG-ENG).
153.7(c)(3) introductory text | (CG-522) | (CG-ENG).
153.7(c)(4) introductory text | (CG-522) | (CG-ENG).
153.7(c)(5) | (CG-522) | (CG-ENG).
153.7(c)(6) | (CG-522) | (CG-ENG).
153.10(a)(1) introductory text | (CG-522) | (CG-ENG).
153.10(a)(3) | (CG-522) | (CG-ENG).
153.10(b) introductory text | (CG-522) | (CG-ENG).
153.15(b)(4) | (CG-522) | (CG-ENG).
153.16(a) | (CG-522) | (CG-ENG).
153.219(b)(3) | (CG-522) | (CG-ENG).
153.250 | (CG-522) | (CG-ENG).
153.336(a)(3) | (CG-522) | (CG-ENG).
153.353(c) | (CG-522) | (CG-ENG).
153.365(a)(3) | (CG-522) | (CG-ENG).
153.407(b) | (CG-522) | (CG-ENG).
153.460(b) | (CG-522) | (CG-ENG).
153.460(c) | (CG-522) | (CG-ENG).
153.490(b)(1) | (CG-522) | (CG-ENG).
153.491(b)(3) | (CG-522) | (CG-ENG).
153.525(d)(3) | (CG-522) | (CG-ENG).
153.530(c) introductory text | (CG-522) | (CG-ENG).
153.530(c)(1) | (CG-522) | (CG-ENG).
153.530(c)(2) | (CG-522) | (CG-ENG).
153.530(o)(1) | (CG-522) | (CG-ENG).
153.556(a) | (CG-522) | (CG-ENG).
153.557(a)(3) | (CG-522) | (CG-ENG).
153.557(b) | (CG-522) | (CG-ENG).
153.558(b) | (CG-522) | (CG-ENG).
153.921 | (CG-522) | (CG-ENG).
153.935a(a)(2) | (CG-522) | (CG-ENG).
153.1010(b)(4) | (CG-522) | (CG-ENG).
153.1011(a)(2) | (CG-522) | (CG-ENG).
153.1011(a)(3) | (CG-522) | (CG-ENG).
153.1025(c) | Commandant (CG-522). This authorization may be obtained by telephone ((202) 372-1425) if the person has previously obtained approval for the cargo tank entry procedure from the Commandant (CG-522) | Commandant (CG-ENG). This authorization may be obtained by calling telephone number 202-372-1420 or e-mail hazmatstandards@uscg.mil if the person has previously obtained approval for the cargo tank entry procedure from the Commandant (CG-ENG).
153.1052 | (CG-522) | (CG-ENG).
153.1101(c) introductory text | (CG-522) | (CG-ENG).
153.1119(c)(1) | (CG-522) | (CG-ENG).
153.1119(c)(2)(viii) | (CG-522) | (CG-ENG).
153.1119(c)(3) | (CG-522) | (CG-ENG).
153.1119(e) | (CG-522) | (CG-ENG).
153.1502(a) | (CG-522) | (CG-ENG).
Table 1 to Part 153, footnote h | (CG-522) | (CG-ENG) (telephone number 202-372-1420).
153.1608 Note | (CG-522) (tel # 202-372-1425) | (CG-ENG) (telephone number 202-372-1420).

PART 154—SAFETY STANDARDS FOR SELF-PROPELLED VESSELS CARRYING BULK LIQUEFIED GASES

152. The authority citation for part 154 continues to read as follows:

Authority: 46 U.S.C. 3703, 9101; Department of Homeland Security Delegation No. 0170.1.

PART 154—[AMENDED]

153. In the table below, for each section indicated in the left column, remove the text indicated in the middle column from wherever it appears, and add, in its place, the text indicated in the right column:

Section | Remove | Add
154.1(a) | (CG-522) | (CG-ENG).
154.12(c)(4) | (CG-522) | (CG-ENG).
154.12(d)(4) | (CG-522) | (CG-ENG).
154.32(a) | (CG-522) | (CG-ENG).
154.32(b) | (CG-522) | (CG-ENG).
154.34 | (CG-522) | (CG-ENG).
154.170(b)(1) | (CG-522) | (CG-ENG).
154.170(b)(2) | (CG-522) | (CG-ENG).
154.172(c) | (CG-522) | (CG-ENG).
154.315(b)(2) | (CG-522) | (CG-ENG).
154.350(a) | (CG-522) | (CG-ENG).
154.356(c) | (CG-522) | (CG-ENG).
154.405(c) | (CG-522) | (CG-ENG).
154.406(c) | (CG-522) | (CG-ENG).
154.409(a) | (CG-522) | (CG-ENG).
154.410(a) | (CG-522) | (CG-ENG).
154.410(b) | (CG-522) | (CG-ENG).
154.411 introductory text | (CG-522) | (CG-ENG).
154.418 | (CG-522) | (CG-ENG).
154.419 | (CG-522) | (CG-ENG).
154.425 | (CG-522) | (CG-ENG).
154.426 | (CG-522) | (CG-ENG).
154.428 | (CG-522) | (CG-ENG).
154.430(b) | (CG-522) | (CG-ENG).
154.431(b) | (CG-522) | (CG-ENG).
154.435(a) | (CG-522) | (CG-ENG).
154.436 | (CG-522) | (CG-ENG).
154.438(b) | (CG-522) | (CG-ENG).
154.440(a)(2) | (CG-522) | (CG-ENG).
154.440(b) | (CG-522) | (CG-ENG).
154.447(b) | (CG-522) | (CG-ENG).
154.448 introductory text | (CG-522) | (CG-ENG).
154.449 introductory text | (CG-522) | (CG-ENG).
154.453 | (CG-522) | (CG-ENG).
154.459(b) | (CG-522) | (CG-ENG).
154.459(c) | (CG-522) | (CG-ENG).
154.467 introductory text | (CG-522) | (CG-ENG).
154.503(e) | (CG-522) | (CG-ENG).
154.516 introductory text | (CG-522) | (CG-ENG).
154.519(a)(2) | (CG-522) | (CG-ENG).
154.520 introductory text | (CG-522) | (CG-ENG).
154.522(a) | (CG-522) | (CG-ENG).
154.524(e) | (CG-522) | (CG-ENG).
154.546(a) | (CG-522) | (CG-ENG).
154.610(c) | (CG-522) | (CG-ENG).
154.610(f) | (CG-522) | (CG-ENG).
154.620(b) | (CG-522) | (CG-ENG).
154.630(a) | (CG-522) | (CG-ENG).
154.630(c) | (CG-522) | (CG-ENG).
154.650(d) | (CG-522) | (CG-OES).
154.650(e) | (CG-522) | (CG-OES).
154.655(b) | (CG-522) | (CG-OES).
154.703(b)(3) | (CG-522) | (CG-OES).
154.703(d)(2) | (CG-522) | (CG-OES).
154.709(b) | (CG-522) | (CG-OES).
154.805(e) | (CG-522) | (CG-OES).
154.904(a) | (CG-522) | (CG-OES).
154.908(b) | (CG-522) | (CG-OES).
154.912 | (CG-522) | (CG-OES).
154.1005(a) | (CG-522) | (CG-OES).
154.1005(b) | (CG-522) | (CG-OES).
154.1135(a)(3) | (CG-522) | (CG-OES).
154.1335(b)(1) | (CG-522) | (CG-OES).
154.1340(c)(1) | (CG-522) | (CG-OES).
154.1340(d) | (CG-522) | (CG-OES).
154.1345(b)(2)(i) | (CG-522) | (CG-OES).
154.1725(a)(2) | (CG-522) | (CG-OES).
154.1725(a)(4) | (CG-522) | (CG-OES).
154.1725(b)(1) | (CG-522) | (CG-OES).
154.1735(a) introductory text | (CG-522) | (CG-OES).
154.1755 | (CG-522) | (CG-OES).
154.1860 | (CG-522) | (CG-OES).

PART 159—APPROVAL OF EQUIPMENT AND MATERIALS

154. The authority citation for part 150 continues to read as follows:

Authority: 46 U.S.C. 3306, 3703; 49 CFR 1.45, 1.46; Section 159.001-9 also issued under the authority of 44 U.S.C. 3507.

PART 159—[Amended]

155. In the table below, for each section indicated in the left column, remove the text indicated in the middle column from wherever it appears, and add, in its place, the text indicated in the right column:

Section | Remove | Add
159.001-2 | Chief, Marine Safety and Environmental Protection (Commandant (CG-5)) | Deputy for Operations Policy and Capabilities (CG-DCO-D).
159.001-4(a) | Life Saving and Fire Safety Standards Division (CG-5214) | Life Saving and Fire Safety Division (CG-ENG-4).
159.001-5 | (CG-5214) | (CG-ENG-4).

PART 160—LIFESAVING EQUIPMENT

156. The authority citation for part 160 continues to read as follows:

Authority: 46 U.S.C. 2103, 3306, 3703 and 4302; E.O. 12234; 45 FR 58801; 3 CFR, 1980 Comp., p. 277; 49 CFR 1.46; and Department of Homeland Security Delegation No. 0170.1.

PART 160—[Amended]

157. In the table below, for each section indicated in the left column, remove the text indicated in the middle column from wherever it appears, and add, in its place, the text indicated in the right column:

Section | Remove | Add
160.002-1(c) | (CG-521) | (CG-ENG).
160.010-1(a) | (CG-5214), U.S. Coast Guard, 2100 Second Street SW | (CG-ENG-4), U.S. Coast Guard, 2100 2nd Street, SW.
160.010-2 “Commandant” definition | (CG-5214), U.S. Coast Guard, 2100 Second Street SW | (CG-ENG-4), U.S. Coast Guard, 2100 2nd Street SW.
160.010-5(b) introductory text | (CG-5214) | (CG-ENG-4).
160.010-5(c)(1) | (CG-5214) | (CG-ENG-4).
160.010-5(c)(2) | (CG-5214) | (CG-ENG-4).
160.010-5(c)(3) | (CG-5214) | (CG-ENG-4).
160.010-7(a) | (CG-5214) | (CG-ENG-4).
160.022-1(c) | (CG-521) | (CG-ENG-4).
160.037-1(c) | (CG-521) | (CG-ENG).
160.047-1(c)(1) | (CG-521) | (CG-ENG).
160.048-1(c) | 2100 Second Street SW., Washington, DC 20593-0001 | 2100 2nd Street SW., Stop 7126, Washington, DC 20593-7126.
160.049-1(c) | 2100 Second Street SW., Washington, DC 20593-0001 | 2100 2nd Street SW., Stop 7126, Washington, DC 20593-7126.
160.051-3 “Commandant” definition | (CG-5214), U.S. Coast Guard, 2100 Second Street SW | Commandant (CG-ENG-4), U.S. Coast Guard, 2100 2nd Street SW.
160.051-5(a) | (CG-5214), U.S. Coast Guard, 2100 Second Street SW | (CG-ENG-4), U.S. Coast Guard, 2100 2nd Street SW.
160.052-1(c)(1) | (CG-521) | (CG-ENG).
160.054-1(b) | (CG-521) | (CG-ENG).
160.055-1(c) | (CG-521) | (CG-ENG).
160.057-1(c) | (CG-521) | (CG-ENG).
160.060-1(c)(1) | (CG-521) | (CG-ENG).
160.072-09(a) introductory text | (CG-521) | (CG-ENG).
160.073-5(b) | (CG-521) | (CG-ENG).
160.076-5 “Commandant” definition | Marine Safety and Environmental Protection. Address: Commandant (CG-5214) | Life Saving and Fire Safety Division: Commandant (CG-ENG-4).
160.076-11(a) | (CG-5214) | (CG-ENG-4).
160.077-2(a) | Marine Safety and Environmental Protection. Address: Commandant (CG-5214) | Life Saving and Fire Safety Division. Address: Commandant (CG-ENG-4).
160.077-5(a) | (CG-5214) | (CG-ENG-4).
160.115-3 “Commandant” definition | (CG-5214), U.S. Coast Guard, 2100 Second Street SW | (CG-ENG-4), U.S. Coast Guard, 2100 2nd Street SW.
160.115-5(a) | (CG-5214), U.S. Coast Guard, 2100 Second Street SW | (CG-ENG-4), U.S. Coast Guard, 2100 2nd Street SW.
160.132-3 “Commandant” definition | (CG-5214), U.S. Coast Guard, 2100 Second Street SW | (CG-ENG-4), U.S. Coast Guard, 2100 2nd Street SW.
160.132-5(a) | (CG-5214), U.S. Coast Guard, 2100 Second Street SW | (CG-ENG-4), U.S. Coast Guard, 2100 2nd Street SW.
160.133-3 “Commandant” definition | (CG-5214), U.S. Coast Guard, 2100 Second Street SW | (CG-ENG-4), U.S. Coast Guard, 2100 2nd Street SW.
160.133-5(a) | (CG-5214), U.S. Coast Guard, 2100 Second Street SW | (CG-ENG-4), U.S. Coast Guard, 2100 2nd Street SW.
160.135-3 “Commandant” definition | (CG-5214), U.S. Coast Guard, 2100 Second Street SW | (CG-ENG-4), U.S. Coast Guard, 2100 2nd Street SW.
160.135-5(a) | (CG-5214), U.S. Coast Guard, 2100 Second Street SW | (CG-ENG-4), U.S. Coast Guard, 2100 2nd Street SW.
160.151-3 “Commandant” definition | (CG-5214) | (CG-ENG-4).
160.151-5(a) | (CG-5214), U.S. Coast Guard, 2100 Second Street SW | (CG-ENG-4), U.S. Coast Guard, 2100 2nd Street SW.
160.156-3 “Commandant” definition | (CG-5214), U.S. Coast Guard, 2100 Second Street SW | (CG-ENG-4), U.S. Coast Guard, 2100 2nd Street SW.
160.156-5(a) | (CG-5214), U.S. Coast Guard, 2100 Second Street SW | (CG-ENG-4), U.S. Coast Guard, 2100 2nd Street SW.
160.170-3 “Commandant” definition | (CG-5214), U.S. Coast Guard, 2100 Second Street SW | (CG-ENG-4), U.S. Coast Guard, 2100 2nd Street SW.
160.170-5(a) | (CG-5214), U.S. Coast Guard, 2100 Second Street SW | (CG-ENG-4), U.S. Coast Guard, 2100 2nd Street SW.
160.171-3(a) | (CG-5214) | (CG-ENG-4).
160.174-3(a) | (CG-5214) | (CG-ENG-4).
160.176-3(a) | Marine Safety and Environmental Protection. Address: Commandant (CG-5214) | Life Saving and Fire Safety Division. Address: Commandant (CG-ENG-4).
160.176-4(a) | (CG-5214) | (CG-ENG-4).

PART 161—ELECTRICAL EQUIPMENT

158. The authority citation for part 161 continues to read as follows:

Authority: 46 U.S.C. 3306, 3703, 4302; E.O. 12234, 45 FR 58801, 3 CFR, 1980 Comp., p. 277; Department of Homeland Security Delegation No. 0170.1.

PART 161—[AMENDED]

159. In the table below, for each section indicated in the left column, remove the text indicated in the middle column from wherever it appears, and add, in its place, the text indicated in the right column:

Section | Remove | Add
161.002-1(a) | (CG-521) | (CG-ENG).
161.002-17 | (CG-521) | (CG-ENG).
161.002-18(a) introductory text | (CG-521) | (CG-ENG).
161.011-10(c) | (CG-521) | (CG-ENG).
161.012-5(a) | (CG-521) | (CG-ENG).
161.013-11(c)(1) | (CG-521) | (CG-ENG).
161.013-17 | (CG-521) | (CG-ENG)

PART 162—ENGINEERING EQUIPMENT

160. The authority citation for part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

PART 162—[AMENDED]

161. In the table below, for each section indicated in the left column, remove the text indicated in the middle column from wherever it appears, and add, in its place, the text indicated in the right column:

Section | Remove | Add
162.017-1(b) | (CG-521) | (CG-ENG).
162.017-6(c) | (CG-521) | (CG-ENG).
162.027-1(a) | (CG-521) | (CG-ENG).
162.027-2(b) | (CG-521) | (CG-ENG).
162.050-4(a) | (CG-521) | (CG-ENG).
162.050-15(a) | (CG-5213) | (CG-ENG-3).
162.050-15(e) | (CG-5213) | (CG-ENG-3).
162.050-15(h) | (CG-5213) | (CG-ENG-3).
162.060-5(a) | Commandant (CG-52), Commercial Regulations and Standards Directorate | Director of Commercial Regulations and Standards (CG-5PS).
162.060-16(c) | Commandant (CG-52), Commercial Regulations and Standards Directorate | Director of Commercial Regulations and Standards (CG-5PS).
162.060-40(b) | (CG-521) | (CG-ENG).
162.060-40(c) | (CG-521) | (CG-ENG).
162.161-2(a) | (CG-522) | (CG-OES).

PART 164—MATERIALS

162. The authority citation for part 164 continues to read as follows:

Authority: 46 U.S.C. 3306, 3703, 4302; E.O. 12234, 45 FR 58801, 3 CFR, 1980 Comp., p. 277; 49 CFR 1.46.

PART 164—[Amended]

163. In the table below, for each section indicated in the left column, remove the text indicated in the middle column from wherever it appears, and add, in its place, the text indicated in the right column:

Section | Remove | Add
164.007-1(c)(1) | (CG-521) | (CG-ENG).
164.008-1(c)(1) | (CG-521) | (CG-ENG).
164.009-9(a) | (CG-521) | (CG-ENG).
164.009-9(d) | (CG-521) | (CG-ENG).
164.012-1(b) | (CG-521) | (CG-ENG).
164.013-2(a) | (CG-5214) | (CG-ENG-4).
164.018-7(a) | (CG-521) | (CG-ENG).
164.018-7(a) | An application for approval of retroreflective | An application for approval of retroreflective.
164.019-3 Commandant definition | Marine Safety and Environmental Protection, U.S. Coast Guard. Address: Commandant (CG-521) | Office of Engineering and Design Standards, U.S. Coast Guard. Address: Commandant (CG-ENG).
164.023-3(a) | (CG-5214) | (CG-ENG-4).
164.120-3 Commandant definition | (CG-5214), U.S. Coast Guard, 2100 Second Street, SW | (CG-ENG-4), U.S. Coast Guard, 2100 2nd Street, SW.
164.120-5(a) | (CG-5214), U.S. Coast Guard, 2100 Second Street, SW | (CG-ENG-4), U.S. Coast Guard, 2100 2nd Street, SW.

PART 167—PUBLIC NAUTICAL SCHOOL SHIPS

164. The authority citation for part 167 continues to read as follows:

Authority: 46 U.S.C. 3306, 3307, 6101, 8105; E.O. 12234, 45 FR 58801, 3 CFR, 1980 Comp., p. 277; Department of Homeland Security Delegation No. 0170.1.

§ 167.15-30 [Amended]

165. Amend § 167.15-30(e) by removing the text “(CG-543)” and adding, in its place, the text “(CG-CVC)”.

§ 167.20-1 [Amended]

166. Amend § 167.20-1(a), by removing the text “American Bureau of Shipping (ABS), Two World Trade Center—106th Floor, New York, NY 10048” and adding, in its place, the text “American Bureau of Shipping (ABS), 16855 Northcase Drive, Houston, TX 77060”.

PART 169—SAILING SCHOOL VESSELS

167. The authority citation for part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

PART 169—[AMENDED]

168. In the table below, for each section indicated in the left column, remove the text indicated in the middle column from wherever it appears, and add, in its place, the text indicated in the right column:

Section | Remove | Add
169.107, Headquarters definition | United States Coast Guard, Washington, DC 20593 | U.S. Coast Guard, 2100 2nd Street SW., Stop 7126, Washington, DC 20593-7126.
169.115(b) | (CG-521) | (CG-ENG).
169.229(e) | (CG-543) | (CG-CVC).

PART 170—STABILITY REQUIREMENTS FOR ALL INSPECTED VESSELS

169. The authority citation for part 170 continues to read as follows:

Authority: 43 U.S.C. 1333; 46 U.S.C. 2103, 3306, 3703; E.O. 12234, 45 FR 58801, 3 CFR, 1980 Comp., p. 277; Department of Homeland Security Delegation No. 0170.1.

§ 170.015 [Amended]

170. Amend § 170.015(a) by removing the text “(CG-521)” and adding, in its place, the text “(CG-ENG)”.

§ 170.090 [Amended]

171. Amend § 170.090(g) by removing the text “(CG-521)” and adding, in its place, the text “(CG-ENG)”.

PART 171—SPECIAL RULES PERTAINING TO VESSELS CARRYING PASSENGERS

172. The authority citation for part 171 continues to read as follows:

Authority: 46 U.S.C. 2103, 3306; E.O. 12234, 45 FR 58801, 3 CFR, 1980 Comp., p. 277; Department of Homeland Security Delegation No. 0170.1.

§ 171.012 [Amended]

173. Amend § 171.012(a) by removing the text “(CG-5212)” and adding, in its place, the text “(CG-ENG-2)”.

§ 171.080 [Amended]

174. Amend § 171.080 by removing the text “171.010(a)” from footnote (3) to Table 171.080(a) and adding, in its place, the text “§ 171.010(b)”.

PART 172—SPECIAL RULES PERTAINING TO BULK CARGOES

175. The authority citation for part 172 continues to read as follows:

Authority: 46 U.S.C. 3306, 3703, 5115; E.O. 12234, 45 FR 58801, 3 CFR, 1980 Comp., p. 277; Department of Homeland Security Delegation No. 0170.1.

§ 172.020 [Amended]

176. Amend § 172.020(a) by removing the text “(CG-5212)” and adding, in its place, the text “(CG-ENG-2)”.

PART 174—SPECIAL RULES PERTAINING TO SPECIFIC VESSEL TYPES

177. The authority citation for part 174 continues to read as follows:

Authority: 42 U.S.C. 9118, 9119, 9153; 43 U.S.C. 1333; 46 U.S.C. 3306, 3703; E.O. 12234, 45 FR 58801, 3 CFR, 1980 Comp., p. 277; Department of Homeland Security Delegation No. 0170.1.

§ 174.007 [Amended]

178. Amend § 174.007(a) by removing the text “(CG-5212)” and adding, in its place, the text “(CG-ENG-2)”.

PART 175—GENERAL PROVISIONS

179. The authority citation for part 175 continues to read as follows:

Authority: 46 U.S.C. 2103, 3205, 3306, 3703; Pub. L. 103-206, 107 Stat. 2439; 49 U.S.C. App. 1804; Department of Homeland Security Delegation No. 0170.1; § 175.900 also issued under 44 U.S.C. 3507.

180. In 175.400, in the definition for “Remotely operated vehicle (ROV) team”, remove the word “manor” and add, in its place, the word “manner.”

§ 175.540 [Amended]

181. Amend § 175.540(d) by removing the text “(CG-543)” and adding, in its place, the text “(CG-CVC)”.

§ 175.600 [Amended]

182. Amend § 175.600(a) by removing the text “(CG-521)” and adding, in its place, the text “(CG-ENG)”.

PART 179—SUBDIVISION, DAMAGE STABILITY, AND WATERTIGHT INTEGRITY

183. The authority citation for part 179 continues to read as follows:

Authority: 43 U.S.C. 1333; 46 U.S.C. 2103, 3306, 3703; E.O. 12234, 45 FR 58801, 3 CFR, 1980 Comp., p. 277; Department of Homeland Security Delegation No. 0170.1.

§ 179.15 [Amended]

184. Amend § 179.15(a) by removing the text “(CG-5212)” and adding, in its place, the text “(CG-ENG-2)”.

PART 180—LIFESAVING EQUIPMENT AND ARRANGEMENTS

185. The authority citation for part 180 continues to read as follows:

Authority: 46 U.S.C. 2104, 3306; E.O. 12234, 45 FR 58801, 3 CFR, 1980 Comp., p. 277; Department of Homeland Security Delegation No. 0170.1

§ 180.15 [Amended]

186. Amend § 180.15 by removing paragraphs (a), (b), (e), (f), (g), (h), and (i), and redesignating paragraphs (c), (d), (j), and (k) as paragraphs (a), (b), (c), and (d), respectively.

187. In § 180.200, following Table 180.200(c), remove the text “§ 180.15(d)” from the abbreviation “LF” and add, in its place, the text “§ 180.15(b)”.

PART 188—GENERAL PROVISIONS

188. The authority citation for part 188 continues to read as follows:

Authority: 46 U.S.C. 2113, 3306; Pub. L 103-206, 107 Stat. 2439; 49 U.S.C. 5103, 5106; E.O. 12234, 45 FR 58801, 3 CFR, 1980 Comp., p. 277; Department of Homeland Security Delegation No. 0170.1.

§ 188.35-5 [Amended]

189. Amend § 188.35-5(b) by removing the text “(CG-543)” and adding, in its place, the text “(CG-CVC)”.

PART 189—INSPECTION AND CERTIFICATION

190. The authority citation for part 189 continues to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; Department of Homeland Security Delegation No. 0170.1.

PART 189—[Amended]

191. In the table below, for each section indicated in the left column, remove the text indicated in the middle column from wherever it appears, and add, in its place, the text indicated in the right column:

Section | Remove | Add
189.15-5(b) | (CG-521) | (CG-ENG).
189.40-3(e)(1) | (CG-543) | (CG-CVC).
189.40-3(e)(3) | (CG-543) | (CG-CVC).
189.40-3(g) | (CG-543) | (CG-CVC).

PART 193—FIRE PROTECTION EQUIPMENT

192. The authority citation for part 193 continues to read as follows:

Authority: 46 U.S.C. 2213, 3102, 3306; E.O. 12234, 45 FR 58801, 3 CFR, 1980 Comp., p. 277; Department of Homeland Security Delegation No. 0170.1.

§ 193.01-3 [Amended]

193. Amend § 193.01-3(a) by removing the text “(CG-521)” and adding, in its place, the text “(CG-ENG)”.

PART 194—HANDLING, USE, AND CONTROL OF EXPLOSIVES AND OTHER HAZARDOUS MATERIALS

194. The authority citation for part 194 continues to read as follows:

Authority: 46 U.S.C. 2103, 2113, 3306; 49 U.S.C. App. 1804; E.O. 12234, 45 FR 58801, 3 CFR, 1980 Comp., p. 277; Department of Homeland Security Delegation No. 0170.1.

§ 194.05-3 [Amended]

195. Amend § 194.05-3(b) by removing the text “(CG-522)” and adding, in its place, the text “(CG-OES)”.

PART 195—VESSEL CONTROL AND MISCELLANEOUS SYSTEMS AND EQUIPMENT

196. The authority citation for part 195 continues to read as follows:

Authority: 46 U.S.C. 2113, 3306, 3307; 49 U.S.C. App. 1804; E.O. 12234, 45 FR 58801, 3 CFR, 1980 Comp., p. 277; Department of Homeland Security Delegation No. 0170.1.

§ 195.01-3 [Amended]

197. Amend § 195.01-3(a) by removing the text “(CG-521)” and adding, in its place, the text “(CG-ENG)”.

PART 197—GENERAL PROVISIONS

198. The authority citation for part 197 continues to read as follows:

Authority: 33 U.S.C. 1509; 43 U.S.C. 1333; 46 U.S.C. 3306, 3703, 6101; Department of Homeland Security Delegation No. 0170.1.

§ 197.510 [Amended]

199. Amend § 197.510(a) by removing the text “(CG-522)” and adding, in its place, the text “(CG-OES)”.

PART 199—LIFESAVING SYSTEMS FOR CERTAIN INSPECTED VESSELS

200. The authority citation for part 199 continues to read as follows:

Authority: 46 U.S.C. 3306, 3703; Pub. L 103-206, 107 Stat. 2439; Department of Homeland Security Delegation No. 0170.1.

PART 199—[AMENDED]

201. In the table below, for each section indicated in the left column, remove the text indicated in the middle column from wherever it appears, and add, in its place, the text indicated in the right column:

Section | Remove | Add
199.05(a) | (CG-5214), 2100 2nd St., SW | (CG-ENG-4) 2100 2nd Street SW.
199.09 | (CG-521) | (CG-ENG).
199.20(a)(1) introductory text | (CG-543) | (CG-CVC).
199.20(a)(2) | (CG-543) | (CG-CVC).
199.20(b) | (CG-543) | (CG-CVC).
199.20(c) | (CG-543) | (CG-CVC).
199.30 “Major character” definition | (CG-543) | (CG-CVC).
199.40(c) introductory text | (CG-521) | (CG-ENG).

PART 401—GREAT LAKES PILOTAGE REGULATIONS

202. The authority citation for part 401 continues to read as follows:

Authority: U.S.C. 2104(a), 6101, 7701, 8105, 9303, 9304; Department of Homeland Security Delegation No. 0170.1; 46 CFR 401.105 also issued under the authority of 44 U.S.C. 3507.

§ 401.110 [Amended]

203. Amend § 401.110 as follows:

a. In paragraph (a)(7), following the words “whom he”, add the words “or she”, and following the words “delegated his”, add the words “or her”; and

b. In paragraph (a)(9), remove the text “(CG-5522)” and add, in its place, the text “(CG-WWM-2), Attn: Director, Great Lakes Pilotage, U.S. Coast Guard,”; and

c. In paragraph (a)(16), remove the words “Director of Great Lakes Pilotage” and add in their place the words “Great Lakes Pilotage Division (CG-WWM-2)”.

Title 49

PART 450—GENERAL

204. The authority citation for Part 450 continues to read as follows:

Authority: 46 U.S.C. 80503; Department of Homeland Security Delegation No. 0170.1.

PART 450—[AMENDED]

205. In the table below, for each section indicated in the left column, remove the text indicated in the middle column from wherever it appears, and add, in its place, the text indicated in the right column:

Section | Remove | Add
450.11(a) | (CG-522) | (CG-OES).
450.11(d) | (CG-522) | (CG-OES).
450.12(a) | (CG-522) | (CG-OES).
450.13(a) | (CG-522) | (CG-OES).
450.13(b) | (CG-522) | (CG-OES).
450.13(c) | (CG-522) | (CG-OES).
450.13(d) | (CG-522) | (CG-OES).
450.14(a)(2) | (CG-522) | (CG-OES).
450.14(a)(3) | (CG-522) | (CG-OES).
450.15(a) | (CG-522) | (CG-OES).
450.16(a) introductory text | (CG-522) | (CG-OES).
450.16(b) introductory text | (CG-522) | (CG-OES).

PART 451—TESTING AND APPROVAL OF CONTAINERS

206. The authority citation for Part 451 continues to read as follows:

Authority: 46 U.S.C. 80503; Department of Homeland Security Delegation No. 0170.1.

PART 451—[AMENDED]

207. In the table below, for each section indicated in the left column, remove the text indicated in the middle column from wherever it appears, and add, in its place, the text indicated in the right column:

Section | Remove | Add
451.1(a) | (CG-522) | (CG-OES).
451.3(a) | (CG-522) | (CG-OES).
451.5(b) | (CG-522) | (CG-OES).
451.18(a) | (CG-522) | (CG-OES).

PART 452—EXAMINATION OF CONTAINERS

208. The authority citation for Part 452 continues to read as follows:

Authority: 46 U.S.C. 80503; Department of Homeland Security Delegation No. 0170.1.

§ 452.7 [Amended]

209. Amend § 452.7(a) by removing the text “(CG-522)” and adding, in its place, the text “(CG-OES)”.

PART 453—CONTROL AND ENFORCEMENT

210. The authority citation for Part 453 continues to read as follows:

Authority: 46 U.S.C. 80503; Department of Homeland Security Delegation No. 0170.1.

PART 453—[AMENDED]

211. In the table below, for each section indicated in the left column, remove the text indicated in the middle column from wherever it appears, and add, in its place, the text indicated in the right column:

Section | Remove | Add
453.7(a) | (CG-522) | (CG-OES).
453.7(b) | (CG-522) | (CG-OES).
453.7(d) | (CG-522) | (CG-OES).
453.7(e) | (CG-522) | (CG-OES).

Dated: September 19, 2012.
Kathryn Sinniger,
Chief, Office of Regulations and Administrative Law, United States Coast Guard.

[FR Doc. 2012-23551 Filed 9-28-12; 8:45 am]

BILLING CODE 9110-04-P